DEPARTMENT OF COMMERCE

Bureau of Industry and Security

15 CFR Parts 734, 738, 740, 742, 744, 746, and 772

[Docket No. 220215-0048]

RIN 0694-AI71

Implementation of Sanctions Against Russia Under the Export Administration Regulations (EAR)

AGENCY: Bureau of Industry and Security, Department of Commerce.

ACTION: Final rule.

SUMMARY: In response to the Russian Federation's (Russia's) further invasion of Ukraine, with this final rule, the Department of Commerce is adding new Russia license requirements and licensing policies to the Export Administration Regulations (EAR) to protect U.S. national security and foreign policy interests. These new Russia measures: Impose new Commerce Control List (CCL)-based license requirements for Russia; add two new foreign “direct product” rules (FDP rules) specific to Russia and Russian `military end users;' specify a license review policy of denial applicable to all of the license requirements being added in this rule, with certain limited exceptions; significantly restrict the use of EAR license exceptions; expand the existing Russia `military end use' and `military end user' control scope to all items “subject to the EAR” other than food and medicine designated EAR99, or ECCN 5A992.c and 5D992.c unless for Russian “government end users” and Russian state-owned enterprises (SoEs); transfer forty-five Russian entities from the Military End-User (MEU) List to the Entity List with an expanded license requirement of all items subject to the EAR (including foreign-produced items subject to the Russia-MEU FDP rules); and add two new Russia entities and revise two Russia entities to the Entity List. Lastly, this rule imposes comprehensive export, reexport and transfer (in-country) restrictions for the so-called Donetsk People's Republic (DNR) and Luhansk People's Republics (LNR) regions of Ukraine (“Covered Regions of Ukraine”) and makes conforming revisions to export, reexport transfer (in-country) restrictions for Crimea Region of Ukraine provisions.

DATES: This rule is effective February 24, 2022.

FOR FURTHER INFORMATION CONTACT: For questions on the Entity List and MEU List, contact the Chair, End-User Review Committee, Office of the Assistant Secretary, Export Administration, Bureau of Industry and Security, Department of Commerce, Phone: (202) 482-5991, Fax: (202) 482-3911, Email: ERC@bis.doc.gov.

For other questions on this final rule, contact Eileen Albanese, Director, Office of National Security and Technology Transfer Controls, Bureau of Industry and Security, Department of Commerce, Phone: (202) 482-0092, Fax: (202) 482-3355, Email: rpd2@bis.doc.gov. For emails, include “Russia” in the subject line.

SUPPLEMENTARY INFORMATION:

I. Background

In response to the Russian Federation's (Russia's) further invasion of Ukraine, the Bureau of Industry and Security (BIS) imposes extensive sanctions on Russia by amending the Export Administration Regulations (15 CFR parts 730-774) (EAR). Russia's invasion of Ukraine flagrantly violates international law, is contrary to U.S. national security and foreign policy interests, and undermines global order, peace, and security, and therefore necessitates these stringent and expansive sanctions. The Commerce Department's sanctions are one aspect of the broad U.S. Government response to Russia's unprovoked aggression and are being imposed in coordination with allies and partners.

In response to Russia's 2014 invasion of Ukraine and occupation of the Crimean region, the U.S. Government, in coordination with its partners and allies, imposed restrictions on Russia, including asset-blocking measures, licensing requirements applicable to exports, reexports, and transfers (in-country) of items subject to the EAR destined for certain Russian entities, and special controls on items subject to the EAR intended for use in specified Russian industry sectors. Leading up to Russia's further invasion of Ukraine, the U.S. Government announced that should Russia encroach further on Ukraine's territory, it would impose additional, comprehensive sanctions with significant consequences.

The export control measures implemented in this final rule protect U.S. national security and foreign policy interests by restricting Russia's access to items that it needs to project power and fulfill its strategic ambitions. These items include sophisticated technologies designed and produced in the United States, as well as certain foreign-produced items that contain or are based on U.S.-origin technology subject to the EAR or other technology that is subject to the EAR that are essential inputs to Russia's key technology and other sectors. BIS is primarily targeting the Russian defense, aerospace, and maritime sectors with these new export controls. These export controls include controls on the export from abroad of certain foreign-produced items that are subject to the EAR. Given the global dominance of U.S.-origin software, technology, and equipment (including tooling), these new controls, implemented in parallel with similarly stringent measures by partner and allied countries, will cover a broad scope of items that Russia seeks to advance its strategic ambitions and consequently impair the country's key industrial sectors.

II. Overview of New Controls

BIS is implementing a new license requirement for Russia on items subject to the EAR and classified under any Export Control Classification Number (ECCN) in Categories 3 through 9 of the Commerce Control List, Supp. No. 1 to part 774 of the EAR (CCL). The new license requirement is added under new § 746.8(a)(1) (Russia sanctions) in part 746 of the EAR (Embargoes and Other Special Controls). License exceptions described in § 746.8(c)(1)-(7) may be used to overcome the license requirement. When a license application is required, applications for such items will be subject to a policy of denial. However, to minimize unintended consequences, a case-by-case review policy applies to applications to export, reexport, or transfer (in-country) items that ensure safety of flight, maritime safety, meet humanitarian needs, enable government space cooperation, and allow transactions for items destined to specified Western subsidiaries and joint ventures, support civil telecommunications infrastructure in certain countries, and government-to-government activities. The case-by-case review policy will be used to determine whether a transaction that meets the criteria above would benefit the Russian government or defense sector. Additionally, BIS is establishing two new foreign “direct product” rules (FDP rules) in § 734.9 of the EAR. The first relates to the entire country of Russia, as described in new § 734.9(f) (the “Russia FDP rule”). Foreign-produced items subject to the EAR under the Russia FDP rule will be subject to the license requirement described in new § 746.8(a)(2) but will be eligible for certain license exceptions described in § 746.8(c)(1)-(7). When a license application is required, such applications will be subject to a general policy of denial but will be subject to case-by-case review for certain circumstances described further in § 746.8(b).

The second new FDP rule targets Russian `military end users,' as described in new § 734.9(g) (the “Russia-MEU FDP rule”). Foreign-produced items subject to the EAR under the Russia-MEU FDP rule will be subject to the license requirement described in new § 746.8(a)(3). No license exceptions are available to overcome this license requirement, except as specified in the Entity List entry for a Footnote 3 entity on the Entity List in supplement no. 4 to part 744 of the EAR, and such items will be subject to a policy of denial for all license applications, as described in § 746.8(b).

BIS has determined that certain countries are committed to implementing substantially similar export controls as part of their domestic sanctions against Russia. These countries are identified in Supplement No. 3 to part 746 (Russia Exclusions List). They are excluded from the requirements of the Russia and Russia-MEU FDP rules and the de minimis provisions under Supplement No. 2 to part 734 with respect to ECCNs that either specify only Anti-terrorism (AT) in the reason for controls paragraph of the ECCN or are classified under ECCN 9A991. This exclusion may be full or partial, as noted in the Scope column of the Russia Exclusions List and may only apply when the criteria specified in § 746.8(a)(4) or (5) are met. In addition, the Russia Exclusions List includes certain countries that have committed to implementing substantially similar controls under their domestic laws but have not yet implemented them.

BIS also is expanding the scope of the existing `military end use' and `military end user' control under § 744.21 of the EAR for Russia to apply to all items “subject to the EAR” except food and medicine designated EAR99, or ECCN 5A992.c and 5D992.c unless for Russian “government end users” and Russian state-owned enterprises (SoEs). At the same time, this rule removes forty-five Russian entities from the Military End-User (MEU) List in Supplement No. 7 to part 744 and adds them to the Entity List with an expanded license requirement for the export, reexport, and transfer (in-country) of all items “subject to the EAR,” including those items subject to the Russia-MEU FDP rule for `military end users' in Russia. Finally, BIS adds two new Russian entities to the Entity List under this final rule and revises two existing entries for Russian entities on the Entity List.

III. Amendments to the Export Administration Regulations (EAR)

A. Implementation of New Sanctions Against Russia

Addition of Expansive License Requirements, Restrictive License Review Policies, and Restrictions on License Exception Eligibility for Russia

This final rule adds § 746.8 to impose new sanctions against Russia in part 746 of the EAR (Embargoes and Other Special Controls). Under paragraph (a) (License Requirements) of this new section, this final rule imposes three distinct types of license requirements. The first requirement, set forth in paragraph (a)(1) is specific to the export, reexport and transfer (in-country) of items in categories 3, 4, 5, 6, 7, 8 or 9 of the CCL. The second and third requirements, set forth in paragraphs (a)(2) and (3) are specific to reexport, export from abroad, and transfer (in-country) of foreign-produced “direct products” subject to the EAR under the Russia or Russia-MEU FDP rules.

1. Section 746.8(a)(1) License Requirement

New § 746.8(a)(1) (Items classified in an ECCN in CCL Categories 3 through 9) is supplemental to the license requirements found elsewhere in the EAR. Under this paragraph, a license is required for the export, reexport, or transfer (in-country) to or within Russia of any item subject to the EAR and specified in an ECCN in Categories 3, 4, 5, 6, 7, 8, or 9 of the CCL, excluding deemed exports and deemed reexports. In implementing these controls, BIS imposes broad transfer (in-country) requirements on an entire country, reflecting the significance of the U.S. national security and foreign policy concerns, resulting from the Russian further invasion of Ukraine. These license requirements are intended to further restrict items to the Russian military and defense sector. Additionally, paragraph (a)(1) extends EAR license requirements to many items that did not previously require a license to Russia on the basis of their CCL classification alone, such as the parts and components used in civil aircraft controlled under ECCN 9A991.d. Although these items generally are controlled at a lower level under the EAR, they are still necessary for the functioning of aircraft, vessels and electronic items. As such, restrictions on these items can significantly limit Russia's ability to obtain items it is not able to produce. In addition, with these new license requirements, additional items will be treated as controlled U.S.-origin content for purposes of de minimis calculations under supplement no. 2 to part 734 of the EAR, except as described in § 746.8(a)(5). BIS estimates that these new controls will result in an additional 350 license applications being submitted to BIS annually.

2. Section 746.8(a)(2) License Requirement for the Russia FDP Rule

New paragraph (a)(2) (Foreign-produced “direct product” items subject to the EAR under Russia FDP rule) requirements are imposed in conjunction with the simultaneous creation of a new foreign “direct product” rule specific to Russia (Russia FDP rule) in § 734.9(f) of the EAR. The Russia FDP rule establishes a license requirement for foreign-produced items that meet certain product scope and destination scope requirements in § 734.9(f) of the EAR. Specifically, the Russia FDP rule makes the “direct product” of a wide range of CCL software and technology, or items produced by a complete plant or `major component' of a plant that itself is the “direct product” of such U.S.-origin technology or software, when it is known that the foreign-produced item is destined to Russia or will be incorporated into or used in the “production” or “development” of any “part,” “component,” or “equipment” produced in or destined to Russia. Notably, the product scope of the Russia FDP rule does not include items designated EAR99 that are produced by “technology” or “software” as described in § 734.9(f)(1)(i) or by a complete plant or `major component' of a plant as described in § 734.9(f)(1)(ii). The Russia FDP rule is described in greater detail below.

Under paragraph (a)(2), a license is required for the reexport, export from abroad, or transfer (in-country) of any foreign-produced items subject to the EAR under the Russia FDP Rule described in § 734.9(f) of the EAR to any destination. The phrase `any destination' is used to address situations involving multi-step manufacturing processes that occur in more than one country and in which the parties involved have “knowledge” that the foreign-produced item being produced will ultimately be reexported or exported from abroad to Russia. The license requirements under paragraph (a)(2) will apply to the reexports or exports from abroad from manufacturing country 1 to manufacturing country 2 (each contributing to the production chain), when there is “knowledge” that the reexport or export from abroad of the item is ultimately destined to Russia or incorporated into or used in the production or development of any part component or equipment (not designated EAR99) produced in or ultimately destined to Russia.

BIS estimates new license requirements under § 746.8(a)(2) will result in an additional 2,000 license applications being submitted to BIS annually.

3. Section 746.8(a)(3) License Requirement for the Russia-MEU FDP Rule

New paragraph (a)(3) (Foreign-produced “direct product” items subject to the EAR under Russia-Military End User FDP Rule) requirements are imposed in conjunction with the simultaneous creation by this rule of a new foreign “direct product” rule specific to Russia (Russia-Military End User FDP Rule) in § 734.9(g) of the EAR. The Russia-Military End User FDP rule establishes a license requirement for foreign-produced items that meet certain product scope and destination scope requirements in § 734.9(g) of the EAR. Specifically, this Russia-Military End User FDP rule makes the “direct product” of a wide range of CCL software and technology (any software or technology in an ECCN in any category of the CCL subject to the EAR, or items produced by a plant or major component of a plant that itself is the “direct product” of such U.S.-origin technology or software) when it is known that the foreign-produced item will be incorporated into, or will be used in the “production” or “development” of any “part,” “component,” or “equipment” produced, purchased, or ordered by any entity with a footnote 3 designation in the license requirement column of the Entity List. Notably, the product scope of the Russia-Military End User FDP rule includes items designated EAR99 that are a “direct product” of “technology” or “software” described in § 734.9(g)(1)(i) or produced by a complete plant or `major component' of a plant as described in § 734.9(g)(1)(ii). The Russia-MEU FDP rule is described in greater detail below.

Section 746.8(a)(3) specifies that except as described in paragraph (a)(4) of this section, a license is required to reexport, export from abroad, or transfer (in-country), to any destination, any foreign-produced item subject to the EAR under § 734.9(g) of the EAR other than food or medicine designated as EAR99, or ECCN 5A992.c and 5D992.c unless for Russian “government end users” and Russian state-owned enterprises (SoEs). Because the Russia-Military End User FDP rule includes “software” and “technology” in ECCNs in Categories 0, 1 and 2 (in addition to the other 7 categories of the CCL), the likelihood that EAR99 food and medicine foreign direct products could be subject to the EAR increases. To the extent that the direct product of ECCN 0, 1, and 2 may encompass EAR99 food or medicine, this rule exempts those items from the license requirement. For the same reasons noted above in connection with paragraph (a)(2), this final rule also uses the phrase `any destination.'

4. Countries Excluded From Certain Russia License Requirements Under Section 746.8

This final rule also adds a new paragraph § 746.8(a)(4) (Exclusion from license requirements under paragraphs (a)(2) and (3)) to identify countries that BIS has determined are committed to implementing substantially similar export controls as part of their domestic sanctions against Russia. These countries warrant full or partial exclusions, as appropriate, from the requirements set forth under paragraphs (a)(2) and (3) as identified in supplement No. 3 to part 746 (Russia Exclusions List). Similarly, this final rule adds new paragraph (a)(5) (Exclusion from scope of U.S.-origin controlled content under paragraph (a)(1)) to carve out certain content from the scope of U.S.-origin controlled content for de minimis purposes under supplement No. 2 to part 734 of the EAR when making a de minimis calculation for Russia. New paragraph (a)(5) specifies that the license requirements in paragraph (a)(1) of this section are not used to determine controlled U.S.-origin content in a foreign-made item, provided that: The U.S.-origin content is described in ECCNs that either specify only Anti-terrorism (AT) in the reason for controls paragraph of the ECCN or is classified under ECCN 9A991 and is included in the Scope column of the Russia Exclusions List; and the foreign-made item will be reexported or exported to Russia from a country in the Russia Exclusions List.

As a conforming change, this final rule also revises supplement No. 2 to part 734—Guidelines for De Minimis Rules, by revising the third sentence of paragraph (a)(1), which specifies using the license requirements in part 746 for identifying U.S.-origin controlled content for de minimis content. This final rule adds a parenthetical phrase after part 746 to add the phrase “excluding U.S.-origin content that meets the criteria in § 746.8(a)(5).”

Excluded countries for purposes of § 746.8 are identified in new supplement No. 3 to part 746—Countries Excluded from Certain Russia License Requirements, also known as the Russia Exclusions List. The new supplement includes three columns, identifying: (1) The countries for purposes of the exclusion under § 746.8(a)(4) and (5); (2) the scope of the exclusion; and (3) the Federal Register document announcing the addition of such countries to the supplement. This final rule adds the twenty-seven countries of the European Union, Australia, Canada, Japan, New Zealand, and the United Kingdom, as the first countries in supplement No. 3 to part 746. The introductory text of the Russia Exclusions List specifies that exclusions may be full or partial. If a partial exclusion applies, the applicable ECCNs will be described in the Scope column of list.

5. Licensing Policy for Applications Required Under Section 746.8

Under new § 746.8(b) (Licensing policy), applications for the export, reexport or transfer (in-country) of items that require a license under new paragraph (a)(1) and (2) will be reviewed, with certain limited exceptions, under a policy of denial. License applications for certain categories of exports, reexports, and transfers (in-country) will be reviewed on a case-by-case basis to determine whether the transaction would benefit the Russian government or defense sector. These categories are as follows: Applications related to safety of flight, maritime safety, to meet humanitarian needs, in support of government space cooperation, applications for companies headquartered in Country Groups A:5 and A:6 to support civil telecommunications infrastructure, or involving government-to-government activities. In addition, applications for items destined to certain companies operating in Russia will be reviewed on a case-by-case basis if the companies are: (1) Wholly-owned U.S. subsidiaries; (2) foreign subsidiaries of U.S. companies that are joint ventures with other U.S. companies, (3) joint ventures of U.S. companies with companies headquartered in Country Group A:5 and A:6 in supplement no. 1 to part 740 countries, (4) wholly-owned subsidiaries of companies headquartered in Country Group A:5 and A:6 in supplement no. 1 to part 740 countries, or (5) joint ventures of companies headquartered in Country Group A:5 and A:6 with other companies headquartered in Country Groups A:5 and A:6. The case-by-case review policy does not apply to Russian-headquartered companies. This final rule also specifies in paragraph (b) that license applications required under paragraph (a)(3) will be reviewed under a policy of denial in all cases.

6. License Exceptions for Section 746.8 License Requirements

Lastly, under new paragraph (c) (License Exceptions), this final rule specifies that certain license exceptions apply to § 746.8(a)(1) and (2). Specifically, the license exceptions that apply are: Certain sections of License Exception TMP for items for use by the news media, § 740.9(a)(9); License Exception GOV, § 740.11(b); License Exception TSU for software updates for civil end users provided those civil end users are subsidiaries or joint ventures of companies headquartered in the United States or a country or countries from Country Groups A:5 or A:6, § 740.13(c); License Exception BAG, excluding firearms and ammunition (paragraph (e)), § 740.14; License Exception AVS, § 740.15 (a) and (b); License Exception ENC, excluding Russian “government end users” and Russian state owned enterprises (SOEs), § 740.17; and License Exception CCD, § 740.19. This final rule also specifies in paragraph (c) that no license exceptions may overcome the license requirements in paragraph (a)(3) except as specified in the Entity List entry for a Footnote 3 entity on the Entity List in supplement no. 4 to part 744 of the EAR, which is consistent with the fact that entities on the Entity List are generally not eligible for license exceptions.

B. New Russia and Russia-MEU FDP Rules

In § 734.9 (Foreign-Direct Product (FDP) Rules), this final rule adds two new Foreign-Direct Product (FDP) rules as part of the new Russia sanctions. The first rule targets Russia as a destination, and the second targets Russian `military end users.'

1. Addition of Russia FDP Rule

Through the Russia FDP rule set out in new paragraph (f) of § 734.9 of the EAR, this rule establishes that a foreign-produced item located outside the United States is subject to the EAR if it meets both the product scope in paragraph (f)(1) of this section and the destination scope in paragraph (f)(2). License requirements, license review policy, and license exceptions applicable to the foreign-produced items that are subject to the EAR pursuant to this paragraph (f) are identified in § 746.8, described above. Product scope for the Russia FDP rule is defined in paragraph (f)(1)(i) (“Direct product” of “technology” or “software”) and paragraph (f)(1)(ii) (“Direct product” of a complete plant or major component of a plant).

The criteria in paragraph (f)(1)(i) applies to a foreign-produced item that is not designated EAR99 and that is the “direct product” of U.S.-origin “technology” or “software” specified in any ECCN in product groups D or E in Categories 3, 4, 5, 6, 7, 8, or 9 of the CCL. The criteria in paragraph (f)(1)(ii) applies to a foreign-produced item that is not designated EAR99 and is produced by any plant or `major component' of a plant that itself is a “direct product” of U.S.-origin “technology” or U.S.-origin “software” and specified in any ECCN in product groups D or E in Categories 3, 4, 5, 6, 7, 8, or 9 of the CCL. This is an expansive list of “technology” and “software,” which will result in many additional foreign-produced items being considered “subject to the EAR” compared to the other existing FDP rules that applied to Russia prior to the publication of this rule. The additional foreign-produced items that will be “subject to the EAR” will be subject to the new license requirements imposed through this rule under the Sanctions against Russia (new § 746.8), as described above.

For a foreign-produced item to be subject to the EAR under the Russia FDP rule, the criteria in new § 734.9(f)(2) (Destination scope of the Russia FDP rule) must also be met. New paragraph (f)(2) specifies that a foreign-produced item meets the destination scope of the Russia FDP rule if there is “knowledge” that the foreign-produced item is destined to Russia, or will be incorporated into, or used in the “production” or “development” of any “part,” “component,” or “equipment” not designated EAR99 and produced in or destined to Russia.

2. Addition of Russia-Military End User (Russia-MEU) FDP Rule

The Russia-MEU FDP rule set forth in new paragraph (g) targets Russian `military end users' that, as described below, previously were on the MEU List and are being removed from the MEU List and added to the Entity List in Supplement No. 4 to part 744 of the EAR in this final rule. To address the significant support that these `military end users' provide to the Russian military, a new and more expansive FDP rule is warranted for these identified `military end users' under the EAR compared to the FDP rules that apply to certain destinations under the EAR. This final rule adds a new paragraph (g) to impose this new FDP rule targeting these Russian `military end users.' A foreign-produced item located outside the United States is subject to the EAR if it meets both the product scope in paragraph (g)(1) of § 734.9 and the destination scope in paragraph (g)(2). License requirements, license review policy, and license exceptions applicable to the foreign-produced items that are subject to the EAR pursuant to paragraph (g), which are now identified in § 746.8, are described above.

This final rule adds paragraph (g)(1)(i) (“Direct product” of “technology” or “software”) and paragraph (g)(1)(ii) (“Direct product” of a complete plant or major component of a plant) to define the product scope for the Russia-MEU FDP rule. The criteria in paragraph (g)(1)(i) extends to the “direct product” of “technology” or “software” subject to the EAR and specified in any ECCN in product groups D or E in any category of the CCL. Paragraph (g)(1)(ii) applies to a foreign-produced item that is produced by a plant or `major component' of a plant that itself is a “direct product” of U.S.-origin “technology” or U.S.-origin “software” subject to the EAR and specified in any ECCN in product groups D or E in any category of the CCL, which is an expansive list of “technology” and “software.” This will result in many additional foreign-produced items being considered “subject to the EAR” compared to the other existing FDP rules that applied to these Russian `military end users' prior to the publication of this rule. The additional foreign-produced items that will be “subject to the EAR” will be subject to the new license requirements being imposed as part of the sanctions against Russia set forth in new § 746.8.

For a foreign-produced item to be subject to the EAR, the criteria in new paragraph (g)(2) (End-user scope of the Russia MEU FDP rule) must be met. New paragraph (g)(2) specifies that a foreign-produced item meets the destination scope of the Russia MEU FDP rule if there is “knowledge” as specified in new paragraph (g)(2)(i) (Activities involving Footnote 3 designated entities) that a foreign-produced item will be incorporated into, or will be used in the “production” or “development” of any “part,” “component,” or “equipment” produced, purchased, or ordered by any entity with a footnote 3 designation in the license requirement column of the Entity List in supplement No. 4 to part 744 of the EAR.

In a corresponding change, this final rule adds a new footnote 3 to the Entity List for each of the Russian `military end users' that are being removed from the MEU List and added to the Entity list as described below. The new footnote 3 to the Entity List is a key part of the criteria for the Russia-MEU FDP rule and will include a cross reference back to §§ 734.9(g), 746.8, and 744.21. With the changes described below, forty-five entities on the Entity List now have a footnote 3 designation, as well as two additional entities being added to the Entity List and two existing entities that are being revised in this rule that will also have the footnote 3 designation, for a total of forty-nine entities with a footnote 3 designation. As specified in new paragraph (g)(2) of § 734.9, any entity with a footnote 3 designation in the license requirement column of the Entity List is a party to any transaction involving the foreign-produced item, e.g., as a “purchaser,” “intermediate consignee,” “ultimate consignee,” or “end-user.” A new Note 3 to paragraph (g) specifies that for purposes of paragraph (g), a `military end user' is any entity listed on the Entity List under Russia with a footnote 3 designation.

C. Conforming Changes

Based on the foregoing changes to the EAR, this final rule also makes certain conforming changes to the Russia industry sector sanctions in § 746.5(a)(1); the Commerce Country Chart in supplement No. 1 to part 738; the Consumer Communication Devices license exceptions in § 740.19; and certain licensing review policies in part 742. In addition, this rule makes a correction to the Entity List FDP rule in § 734.9(e).

1. Russia Industry Sector Sanctions Changes

Under § 746.5 (Russian industry sector sanctions), this final rule revises paragraph (a)(1) (General prohibition) to make clarifying edits and add a cross reference to new § 746.8. As this paragraph specifies that there are other provisions of the EAR that apply to exports, reexports, and transfers (in-country) to Russia, a reference to the new sanctions against Russia in § 746.8 is needed to remind exporters, reexporters, and transferors to also look at § 746.8 when determining whether a license is required. This final rule also revises the text to remove the reference to Section 6 of the Export Administration Act of 1979 as this reference is outdated with the passage of the Export Control Reform Act of 2018 (ECRA), and a statutory reference is not necessary. This final rule also corrects the web address referenced in supplement No. 2 to part 746—Russian Industry Sector Sanction List to use the current web address being used by the U.S. Census Bureau regarding Schedule B information.

2. Commerce Country Chart Change

In supplement No. 1 to part 738—Commerce Country Chart, as a conforming change to the addition of new § 746.8, this final rule revises footnote 6 to add a reference to § 746.8, so exporters, reexporters, and transferors are aware of the need to also review license requirements in § 746.8 for items listed in any ECCN in Categories 3, 4, 5, 6, 7, 8, or 9 of the CCL.

3. License Exception CCD Changes

This final rule amends License Exception CCD (§ 740.19), which was previously limited to Cuba, by adding Russia as an additional eligible destination. While § 740.1(a) specifies that any license exception authorizing reexports also authorizes in-country transfers, provided the terms and conditions for reexports under that license exception are met, this final rule revises § 740.19 to add explicit references to transfers (in-country). BIS is making this clarification because new § 746.8 imposes controls on transfers (in-country) within Russia.

In § 740.19(a) (Authorizations), this rule adds Russia and a reference to transfers (in-country). Under the introductory text of paragraph (b) (Eligible commodities and software), this rule adds Russia and a reference to transfers (in-country) and removes an outdated reference to Sudan. Finally, under paragraph (c)(1) (Organizations), this final rule revises paragraph (c)(1)(i), which identifies eligible end users for License Exception CCD, to add Russia and a reference to transfers (in-country). The revision to paragraph (c)(1)(i) specifies that License Exception CCD is limited to the export, reexport, or transfer (in-country) of eligible commodities and software to and for the use of independent non-governmental organizations in Russia. This final rule further adds the Russian Government to the exclusions under paragraph (c)(1)(ii) and adds a new paragraph (c)(1)(iii) (Ineligible Russian Government Officials) to exclude the specified officials from receiving commodities and software under License Exception CCD. Only the end users named as eligible in paragraph (c) may receive the commodities and software eligible under License Exception CCD. This rule also amends paragraph (c)(2) as a correction and clarification, to state that License Exception CCD authorizes exports, reexports and transfers (in-country) to individuals.

When License Exception CCD was initially added to the EAR in 2009, the text of this paragraph only referenced exports. However, a reading of paragraph (a) of the license exception and the preamble to the rule that added the license exception to the EAR indicates that License Exception CCD was intended to authorize both exports and reexports to individuals. See 74 FR 45985 at 45987 (9/8/2009). The addition of transfer (in-country) will clarify that the authorization applies not only to reexports, but also to transfers (in-country).

4. Part 742 (Control Policy—CCL Based Controls) Changes

In part 742, as conforming changes to the license review policy of denial added under paragraph (b) to new § 746.8, this final rule makes changes to license review policies in five sections: 742.2 (Proliferation of chemical and biological weapons), 742.3 (Nuclear nonproliferation), 742.4 (National security), 742.5 (Missile technology), and 742.6 (Regional stability).

Under § 742.2, this final rule revises the second sentence of paragraph (b)(4) to change the license review policy from presumption of denial to policy of denial. This final rule adds two additional sentences to clarify that certain items, such as items to Russia in support of U.S.-Russia civil space cooperation activities, are reviewed on a case-by-case basis as specified under § 746.8(b).

In both §§ 742.3 and 742.5, this final rule revises the second sentence of paragraph (b)(4) to change the license review policy from presumption of denial to policy of denial. For these sections, this final rule also revises the third sentence to remove the reference to commercial space launches from the case-by-case license review policy, and adds a cross reference to the license review policy under § 746.8(b).

Under § 742.4, this final rule revises the third sentence of paragraph (b)(7)(i) to remove the reference to Russia because the license review policy set forth in the paragraph will no longer apply to Russia. This final rule also adds a new paragraph (b)(9), which states that all applications for Russia will be reviewed in accordance with the licensing policy set forth in § 746.8(b).

Under § 742.6, this final rule revises paragraph (b)(8) to remove the reference to Russia because the license review policy set forth in the paragraph will no longer apply to Russia. This final rule also adds a new paragraph (b)(9), specifying that all applications for Russia will be reviewed in accordance with the licensing policy set forth in § 746.8(b). Finally, to establish that license applications for export, reexport or transfer (in-country) to or within Russia will also be reviewed in accordance with the foreign policy interest of promoting the observance of human rights throughout the world and consistent with United States arms embargo policies in § 126.1 of the ITAR (22 CFR 126.1), this final rule adds text to new paragraph (b)(9) to carry over certain portions of the preexisting license review policy for Russia under paragraph (b)(8).

5. Entity List FDP Rule Correction

On February 2, 2022, BIS published a rule in the Federal Register entitled “Foreign-Direct Product Rules: Organization, Clarification, and Correction” (87 FR 6022), which contained an error. In § 734.9(e), BIS unintentionally omitted the term “U.S.-origin” in the phrase “ “direct product” of “technology” or “software” subject to the EAR.” With this final rule, BIS fixes that error by reinserting “U.S.-origin” in “ “direct product” of “U.S.-origin” “technology” or “U.S.-origin” “software”.” Lastly, as clarification for purposes of the new Russia-Military End User FDP rule that this rule adds to § 734.9(g), as described above, BIS did not intend to include “U.S.-origin” for purposes of paragraph (g)(1)(i), but did intend its inclusion in paragraph (g)(1)(ii), as well as in new paragraphs (f)(1)(i) and (ii) for the Russia FDP rule. This final rule, thus, makes clarifying revisions to § 734.9.

D. Changes to `Military End Use' and `End User' Controls for Russia

This final rule revises the scope of the `military end use' and `military end user' controls under § 744.21 of the EAR to reflect the expanded controls for Russia, which, with the publication of this final rule, apply to all items “subject to the EAR” instead of to the narrower subset of items identified in supplement no. 2 to part 744. As a result of the expanded controls for Russia for `military end users' and `military end uses,' BIS is revising the Entity List in supplement No. 4 to part 744 and the Military End-User (MEU) List in supplement no. 7 to the same part to make conforming changes. Accordingly, this final rule revises § 744.21 paragraphs as follows to reflect the expanded `military end use' and `military end user' controls for Russia:

In paragraph (a), this final rule revises the first sentence to remove Russia from the part of the sentence that specifies the prohibition applies to the countries listed. This final rule further revises that first sentence to add, after Venezuela, the phrase “or any item subject to the EAR except for food or medicine designated as EAR99, or ECCN 5A992.c and 5D992.c unless for Russian “government end users” and Russian state-owned enterprises (SoEs) to Russia” to specify that the prohibition is broader for Russia than it is for the other countries subject to the requirements of § 744.21.

BIS is revising paragraph (b)(1) (`Military End-User' (MEU) List) to provide guidance for entities on the MEU List and for Russian entities placed on the Entity List based on § 744.21(b). Because the prior requirements of the MEU List were limited to items identified in supplement no. 2 to part 744 and the Russia-MEU restrictions now apply to all items subject to the EAR as a consequence of the publication of this rule, BIS is removing Russian entities that were listed on the MEU List prior to this rule and placing them instead on the Entity List. This change is consistent with the regulatory construct for these two proscribed persons lists under the EAR (i.e., the MEU List restrictions apply to items identified in supplement no. 2 to part 744 and the Entity List restrictions, in most cases, apply to all items subject to the EAR). This final rule removes the references to Russia in the context of the MEU List and specifies that such entities may be added to supplement No. 4 of part 744—the Entity List—and are subject to license requirements that apply to all items “subject to the EAR” except for food or medicine designated as EAR99, or ECCN 5A992.c and 5D992.c unless for Russian “government end users” and Russian state-owned enterprises (SoEs).

As conforming changes regarding the End-User Review Committee (ERC) processes for the MEU List, this final rule revises paragraph (b)(1)(i) (End-User Review Committee (ERC)) to add references to the Entity List when the MEU List is referenced for the procedures in supplement No. 5 to part 744—Procedures for End-User Review Committee Entity List and `Military End User' (MEU) List Decisions. This change is made to clarify that the ERC procedure for adding entities to the MEU List also apply to additions, modifications and removals from the Entity List for entities added based on § 744.21 of the EAR.

Under paragraph (b)(1)(ii) (License requirements for parties to the transaction), this final rule revises the paragraph to clarify that the license requirements for Burma, Cambodia, the People's Republic of China, and Venezuela continue to apply for exports, reexports, and transfers (in-country) of any item specified in supplement no. 2 to part 744 when an entity included on the MEU List or meeting the definition of `military end-user' as defined in § 744.21(g) is a party to the transaction as described in § 748.5(c) through (f) of the EAR. This final rule also revises paragraph (b)(1)(ii) to add a sentence to clarify that, for purposes of Russia, a license requirement applies to all items subject to the EAR for entities listed in supplement No. 4 to part 744 (the Entity List) pursuant to § 744.21 when such an entity is a party to the transaction as described in § 748.5(c) through (f) of the EAR. These changes are necessary because, with the publication of this final rule, the license requirements for Russia will now be broader than for the other four countries.

Under paragraph (b)(2) (Requests for removal from or modification of `Military End User' List (MEU)), this final rule revises the heading to add a reference to the Entity List. This final rule also adds two more references to the Entity List in this paragraph to specify that the process for requesting removal or modification is the same for entities listed on the MEU List or the Entity List on the basis of § 744.21 of the EAR.

Under paragraph (e) (License review standards), this final rule revises the existing license review policy in paragraph (e)(1) to make it specific to Burma, Cambodia, the People's Republic of China (China), and Venezuela. This final rule adds a new sentence to paragraph (e)(1) to specify that the license review policy for application to or within Russia for the license requirements described in paragraph (a) will be a policy of denial.

Under paragraph (g) (`Military end user'), the final rule makes a correction to add back the parenthetical phrase “(excluding those described in § 744.22(f)(2) of the EAR)” after the term government intelligence or reconnaissance organizations. This text was inadvertently removed from the EAR in a December 9, 2021 (86 FR 70018) final rule.

BIS estimates these changes to § 744.21 will result in an additional 75 license applications being submitted to BIS annually.

E. Military End-User (MEU) List and Entity List Changes for Russian Entities

Under § 744.11(b) (Criteria for revising the Entity List), entities for which there is reasonable cause to believe, based on specific and articulable facts, that the entities have been involved, are involved, or pose a significant risk of being or becoming involved in activities that are contrary to the national security or foreign policy interests of the United States, and those acting on behalf of such entities, may be added to the Entity List. Paragraphs (b)(1) through (5) of § 744.11 provide an illustrative list of activities that could be considered contrary to the national security or foreign policy interests of the United States. The Entity List in supplement no. 4 to part 744 identifies the entities so designated. The EAR impose additional license requirements on, and limit the availability of most license exceptions for, exports, reexports, and transfers (in-country) when an entity that is listed on the Entity List is a party to the transaction as described in § 748.5(c) through (f) of the EAR. The license review policy for each listed entity is identified in the “License Review Policy” column on the Entity List, and the impact on the availability of license exceptions is described in the relevant Federal Register document adding entities to the Entity List. BIS places entities on the Entity List pursuant to part 744 (Control Policy: End-User and End-Use Based) and part 746 (Embargoes and Other Special Controls) of the EAR.

The MEU List in supplement no. 7 to part 744 identifies entities that have been determined by the End-User Review Committee (ERC) to be `military end users' pursuant to § 744.21. That section imposes additional license requirements on, and limits the availability of most license exceptions for, exports, reexports, and transfers (in-country) when an entity listed on the MEU List is a party to the transaction as described in § 748.5(c) through (f) of the EAR, as specified in supplement no. 7 to part 744 and in § 744.21. Entities are listed on the MEU List under the destinations of Burma, Cambodia, China, or Venezuela. The license review policy for each listed entity is identified in the introductory text of the MEU List and in § 744.21(e). The MEU List's introductory text and § 744.21 also specify the scope of the license requirements and limitations on the use of EAR license exceptions.

The ERC, composed of representatives of the Departments of Commerce (Chair), State, Defense, Energy and, where appropriate, the Treasury, makes all decisions regarding additions to, removals from, or other modifications to the Entity List and the MEU List. The ERC makes all decisions to add an entry to the Entity List or MEU List by majority vote and all decisions to remove or modify an entry by unanimous vote. Decisions on Entity or MEU List entries may also be made by higher-level officials of agencies represented on the ERC.

1. Additions to the Entity List

This rule implements the decision of the Departments represented on the ERC to add forty-seven entities to the Entity List, consisting of the forty-five entities being moved from the MEU List to the Entity List and an additional two entities that are newly listed in the EAR.

The agencies represented on the ERC made the decision to move the forty-five entities identified below from the MEU List to the Entity List pursuant to the standards set forth in §§ 744.11(b) and 744.21(b) (including the revisions made in this final rule to the scope of the latter section) of the EAR. Under the circumstances of the Russia invasion of the Ukraine, there is a greater national security and foreign policy threat posed by entities that have previously been found to be supporting `military end uses' in Russia. The ERC used the same standards set forth in §§ 744.11(b) and 744.21(b) to approve the additional two entities being added to the Entity List. These forty-seven entities are `military end users' under the EAR. The license requirements that will apply to them as a consequence of their addition to the Entity List will further limit their ability to obtain items subject to the EAR or obtain the benefit of technology or software subject to the EAR when supporting military activities outside of Russia in a manner contrary to U.S. national security or foreign policy interests.

One of the forty-five entities being moved from the MEU List to the Entity List, described further below, is the Ministry of Defence of the Russian Federation, including the Armed Forces of Russia and all operating units wherever located. This entity was listed as the Ministry of Defence RF on the MEU List, but will be listed on the Entity List under its full name, Ministry of Defence of the Russian Federation, in this final rule. The entry this rule adds for the Ministry of Defence of the Russian Federation includes the national armed services (army, navy, marine, air force, or coast guard), as well as the national guard and national police, government intelligence or reconnaissance organizations of the Russian Federation. In addition, this entry restricts exports, reexports and transfers (in-country) to the national armed services (army, navy, marine, air force, or coast guard), as well as the national guard and national police, government intelligence or reconnaissance organizations of Russia wherever located worldwide.

As a result of the changes to § 744.21 described in this final rule, the license requirements for `military end users' in Russia, now apply to all items “subject to the EAR,” except for food or medicine designated as EAR99, or ECCN 5A992.c and 5D992.c unless for Russian “government end users” and Russian state-owned enterprises (SoEs). Accordingly, the agencies represented on the ERC decided to add forty-five entities to the Entity List. As part of this ERC review effort, the ERC also determined that the additional two entities should be added to the Entity List because they are `military end users.' The license requirements of the MEU List are limited to items identified in supplement no. 2 to part 744. Therefore, the agencies represented on the ERC determined that the MEU List was no longer the appropriate supplement of the EAR in which to list these forty-five `military end users' in Russia and that, for the additional two entities being added, the public would benefit from their identification on the Entity List as `military end users.'

The forty-five entities being moved from the MEU List to the Entity List are: Admiralty Shipyard JSC; Aleksandrov Scientific Research Technological Institute NITI; Argut OOO; Communication Center of the Ministry of Defence; Federal Research Center Boreskov Institute of Catalysis; Federal State Budgetary Enterprise of the Administration of the President of Russia; Federal State Budgetary Enterprise Special Flight Unit Rossiya of the Administration of the President of Russia; Federal State Unitary Enterprise Dukhov Automatics Research Institute (VNIIA); Foreign Intelligence Service (SVR); Forensic Center of Nizhniy Novgorod Region Main Directorate of the Ministry of Interior Affairs; Irkut Corporation; Irkut Research and Production Corporation Public Joint Stock Company; Joint Stock Company Scientific Research Institute of Computing Machinery; JSC Central Research Institute of Machine Building (JSC TsNIIMash); JSC Kazan Helicopter Plant Repair Service; JSC Rocket and Space Centre—Progress; Kamensk-Uralsky Metallurgical Works J.S. Co.; Kazan Helicopter Plant PJSC; Komsomolsk-na-Amur Aviation Production Organization (KNAAPO); Ministry of Defence of the Russian Federation; Moscow Institute of Physics and Technology; NPO High Precision Systems JSC; NPO Splav JSC; Oboronprom OJSC; PJSC Beriev Aircraft Company; PJSC Irkut Corporation; PJSC Kazan Helicopters; POLYUS Research Institute of M.F. Stelmakh Joint Stock Company; Promtech-Dubna, JSC; Public Joint Stock Company United Aircraft Corporation; Radiotechnical and Information Systems (RTI) Concern; Rapart Services LLC; Rosoboronexport OJSC (ROE); Rostec (Russian Technologies State Corporation); Rostekh—Azimuth; Russian Aircraft Corporation MiG; Russian Helicopters JSC; Sukhoi Aviation JSC; Sukhoi Civil Aircraft; Tactical Missiles Corporation JSC; Tupolev JSC; UEC-Saturn; United Aircraft Corporation; United Engine Corporation; and United Instrument Manufacturing Corporation.

The ERC decided to add two new entities to the Entity List: The International Center for Quantum Optics and Quantum Technologies LLC, and SP Kvant. Both are being added, under the destination of Russia, to the Entity List for acquiring and attempting to acquire U.S.-origin items in support of nuclear explosive activities, unsafeguarded nuclear activities, and safeguarded and unsafeguarded nuclear fuel-cycle activities for Russia. The ERC determined that these activities are contrary to the national security and foreign policy interests of the United States under § 744.11(b) of the EAR. These two entities are considered `military end-users' for purposes of § 744.21(b).

Pursuant to §§ 744.11(b) and 744.21(b) of the EAR, the ERC determined that the conduct of the above-described forty-seven entities raises sufficient concerns that prior review, via the imposition of a license requirement for exports, reexports, or transfers (in-country), of all items subject to the EAR, except for food or medicine designated as EAR99 involving these forty-seven entities is appropriate. This rule also excludes ECCN 5A992.c and 5D992.c from the license requirement involving eight of the entities being added that are not Russian “government end users” and Russian state-owned enterprises (SoEs). The ERC also determined that the possible issuance of license denials or the possible imposition of license conditions on shipments to these entities will enhance BIS's ability to prevent violations of the EAR or otherwise protect U.S. national security or foreign policy interests.

For the forty-seven entities added to the Entity List in this final rule, BIS imposes a license requirement that applies to all items subject to the EAR. BIS imposes a license review policy of denial for these forty-seven entities. In addition, no license exceptions are available for exports, reexports, or transfers (in-country) where the entities added to the Entity List in this rule are parties to the transaction as described in § 748.5(c) through (f), with one exception. The United States Government authorization under License Exception GOV (§ 740.11(b)(2) and (e)) is available for two entities being added to the Entity List: JSC Central Research Institute of Machine Building (JSC TsNIIMash) and JSC Rocket and Space Centre—Progress.

Also as described above under the description of § 734.9, this final rule adds new Footnote 3 to the Entity List for each of the forty-five Russian `military end users' that are being moved from the MEU List to the Entity list, as well as to the additional two entities added to the Entity List. New Entity List footnote 3 is part of the criteria for Russia-MEU FDP rule and will include a cross reference back to §§ 734.9(g) and 746.8. More entities may be added to Footnote 3 in the future.

For the reasons described above, this final rule adds the following forty-seven entities to the Entity List. The two new entities added to the Entity List that were not previously on the MEU List are designated with an asterisk:

RUSSIA

• Admiralty Shipyard JSC;

• Aleksandrov Scientific Research Technological Institute NITI;

• Argut OOO;

• Communication Center of the Ministry of Defence;

• Federal Research Center Boreskov Institute of Catalysis;

• Federal State Budgetary Enterprise of the Administration of the President of Russia;

• Federal State Budgetary Enterprise Special Flight Unit Rossiya of the Administration of the President of Russia;

• Federal State Unitary Enterprise Dukhov Automatics Research Institute (VNIIA);

• Foreign Intelligence Service (SVR);

• Forensic Center of Nizhniy Novgorod Region Main Directorate of the Ministry of Interior Affairs;

• *International Center for Quantum Optics and Quantum Technologies LLC;

• Irkut Corporation;

• Irkut Research and Production Corporation Public Joint Stock Company;

• Joint Stock Company Scientific Research Institute of Computing Machinery;

• JSC Central Research Institute of Machine Building (JSC TsNIIMash);

• JSC Kazan Helicopter Plant Repair Service;

• JSC Rocket and Space Centre—Progress;

• Kamensk-Uralsky Metallurgical Works J.S. Co.;

• Kazan Helicopter Plant PJSC;

Komsomolsk-na-Amur Aviation Production Organization (KNAAPO);

• Ministry of Defence of the Russian Federation including the national armed services (army, navy, marine, air force, or coast guard), as well as the national guard and national police, government intelligence or reconnaissance organizations of the Russian Federation;

• Moscow Institute of Physics and Technology;

• NPO High Precision Systems JSC;

• NPO Splav JSC;

• Oboronprom OJSC;

• PJSC Beriev Aircraft Company;

• PJSC Irkut Corporation;

• PJSC Kazan Helicopters;

• POLYUS Research Institute of M.F. Stelmakh Joint Stock Company;

• Promtech-Dubna, JSC;

• Public Joint Stock Company United Aircraft Corporation;

• Radiotechnical and Information Systems (RTI) Concern;

• Rapart Services LLC;

• Rosoboronexport OJSC (ROE);

• Rostec (Russian Technologies State Corporation);

• Rostekh—Azimuth;

• Russian Aircraft Corporation MiG;

• Russian Helicopters JSC;

• *SP Kvant;

• Sukhoi Aviation JSC;

• Sukhoi Civil Aircraft;

• Tactical Missiles Corporation JSC;

• Tupolev JSC;

• UEC-Saturn;

• United Aircraft Corporation;

• United Engine Corporation; and

• United Instrument Manufacturing Corporation.

The acronym “a.k.a.,” which is an abbreviation of “also known as,” is used in entries on the Entity List to identify aliases, thereby assisting exporters, reexporters, and transferors in identifying entities on the Entity List.

2. Revision to the Entity List

This rule implements a modification to two existing entries for “Federal Security Service (FSB)” and “Main Intelligence Directorate” that were both first added to the Entity List on January 4, 2017 (82 FR 724). Specifically, this rule modifies the entry for these entities by adding a Footnote 3 designation as described above because these existing entities have also been determined by the ERC to be `military end users.'

3. Removals From the MEU List

This rule removes the forty-five entities located in Russia that are described above from the MEU List. These forty-five entities were added to the MEU List in three final rules. One entry, for JSC Kazan Helicopter, was added to the MEU List on July 12, 2021 (86 FR 36509). One entry, for Moscow Institute of Physics and Technology, was added to the MEU List on November 26, 2021 (86 FR 67323). The remaining forty-three entries were added to the MEU List on December 23, 2020 (85 FR 83799). As described above, the ERC determined to remove these forty-five entries from the MEU List and add them to the Entity List to reflect the new scope of the license requirements for military end users in Russia pursuant to § 744.21, which will now apply to all items “subject to the EAR” except for food or medicine designated as EAR99, or ECCN 5A992.c and 5D992.c unless for Russian “government end users” and Russian state-owned enterprises (SoEs). The listing of entities added to the Entity List, above, without an asterisk is identical to the list of entities being removed from the MEU List.

F. Comprehensive Export Restrictions for the Covered Regions of Ukraine; Conforming Revisions to Crimea Region of Ukraine Provisions

1. Background on Need for These Changes

On February 21, 2022, President Joseph Biden issued Executive Order (E.O.) 14065, finding that the Russian Federation (Russia)'s “purported recognition of the so-called Donetsk People's Republic (DNR) or Luhansk People's Republic (LNR) regions of Ukraine contradicts Russia's commitments under the Minsk agreements and further threatens the peace, stability, sovereignty, and territorial integrity of Ukraine, and thereby constitutes an unusual and extraordinary threat to the national security and foreign policy of the United States.” E.O. 14065 builds upon and expands the scope of the national emergency declared by President Barack Obama in E.O. 13660 of March 6, 2014 with respect to Russia's actions involving Ukraine. Subsequent E.O.s, including E.O. 13661 of March 16, 2014, E.O. 13662 of March 20, 2014, and E.O. 13685 of December 19, 2014, either expanded further or otherwise took additional steps under President Obama's declaration of national emergency to address Russia's destabilizing conduct.

Section 10 of E.O. 14065 directs all executive departments and agencies of the United States to take all appropriate measures within their authority to implement the E.O. Section One of E.O. 14065 prohibits “the exportation, reexportation, sale, or supply, directly or indirectly, from the United States, or by a United States person, wherever located, of any goods, services, or technology to the Covered Regions[.]” Consistent with and to implement this prohibition, BIS is expanding the restrictions in § 746.6 of the EAR, to apply to export, reexport, and in-country transfer transactions involving the so-called DNR and LNR regions of Ukraine (collectively, the Covered Regions). BIS initially promulgated the § 746.6 restrictions consistent with and to implement E.O. 13685 of December 19, 2014 (79 FR 77357), to which E.O. 14065 is similar in scope, pursuant to which President Obama issued an export prohibition related to the Crimea region of the Ukraine, to address the Russian occupation of that region in 2014. Consistent with and to implement this prohibition, BIS imposed new license requirements with respect to certain export, reexport, and in-country transfer transactions involving the Crimea region of Ukraine. (80 FR 4778, Jan. 29, 2015)

In this rule BIS amends the EAR by imposing a license requirement for the export and reexport to the Covered Regions of Ukraine, and the transfer within the Covered Regions of Ukraine, of all items subject to the EAR, other than food and medicine designated as EAR99 and certain software for internet-based personal communications. For purposes of this rule, and consistent with E.O. 13685 and E.O. 14065, the term `Covered Regions of Ukraine' includes the land territory in the DNR and LNR regions, as well as any maritime areas over which sovereignty, sovereign rights, or jurisdiction is claimed based on occupation of (Crimea), or purported sovereignty (DNR and LNR) over, those land territories. In addition to these substantive changes to § 746.6 of the EAR, BIS is making organizational and related technical edits to account for these restrictions on the Covered Regions of Ukraine and to simplify § 746.6 and facilitate compliance with the provision's requirements.

This rule establishes a policy of denial for the review of applications involving all such exports or reexports to the Covered Regions of Ukraine and transfers within the Covered Regions of Ukraine, except with respect to items not exempt from the license requirement but authorized under the Department of the Treasury's Office of Foreign Assets Control (OFAC) Ukraine related General Licenses (discussed in greater detail in the next paragraph), which BIS will review on a case-by-case basis. Certain license exceptions are available for exports or reexports to the Covered Regions of Ukraine or transfers within the Covered Regions of Ukraine, specifically, the same license exceptions currently available under § 746.6 of the EAR to the Crimea region of Ukraine.

As stated above, license applications for exports, reexports or transfers authorized under OFAC General Licenses will be reviewed on a case-by-case basis. In conjunction with the issuance of E.O. 14065, OFAC issued six General Licenses (Ukraine General License numbers 17-22) to ensure that humanitarian and other related activities can continue in these regions. These General Licenses allow a short-term wind down of activities, as well as for the export to the regions of food, medicine, and medical devices, and ensure personal remittances can continue to flow. They also allow telecommunications and internet services to remain operational, and mail services to continue, as well as allow international organizations to be able to provide aid to the people in the Covered Regions of Ukraine.

This final rule includes a savings clause as described below. If an export, reexport or transfer (in-country) does not qualify for the savings clause described below but falls within the scope of OFAC's Ukraine related General Licenses, an applicant may note this fact in its BIS license application either under block 24 or in a separate attachment. BIS will consider this fact as part of the license review process.

As a reminder, the Donetsk People's Republic and Luhansk People's Republic are listed on the Entity List. A license applies for the export, reexport, and transfer (in-country) of all items subject to the EAR that are destined for these two entities. See 79 FR 42452 (July 22, 2014) (“Donetsk People's Republic and Luhansk People's Republic are both separatist organizations that operate in eastern Ukraine.”).

2. Revisions to the EAR for the Covered Regions of Ukraine; Conforming Revisions to Crimea Region of Ukraine Provisions

To implement the changes described above, this final rule revises § 746.6 (Crimea region of Ukraine and the Covered Regions of Ukraine) in part 746 (Embargoes and Other Special Controls) of the EAR. The existing restrictions regarding Crimea are now located in paragraph (a)(1), and new paragraph (a)(2) imposes a license requirement for exports and reexports to the Covered Regions of Ukraine, and the transfer within the Covered Regions of Ukraine, of all items subject to the EAR, other than food and medicine designated as EAR99 and certain software that is necessary to enable the exchange of personal communications over the internet. Such software must either be designated EAR99 or classified as mass market software under Export Control Classification Number (ECCN) 5D992.c of the EAR and must be widely available to the public at no cost to the user. The license review policy for Crimea is now located in paragraph (b)(1), and new paragraph (b)(2) specifies that the license review policy for the Covered Regions of Ukraine is a policy of denial, except for items authorized under OFAC's Ukraine related General Licenses which will be reviewed on a case-by-case basis.

The amendments to § 746.6 of this rule do not change the license requirements or available license exceptions for the Crimea region of Ukraine. However, this rule amends the licensing policy, as set forth in new paragraph (b), from a presumption of denial to a policy of denial, to harmonize the license review policy for the Crimea region of Ukraine with the more restrictive policy of denial that applies to the Covered Regions of Ukraine given the significant national security and foreign policy concerns related to those areas.

Paragraph (c) specifies the license exceptions that are available to overcome the license requirements set forth in this section with respect to either the Crimea region of Ukraine or the Covered Regions of Ukraine. No license exceptions other than those license exceptions (or paragraphs of license exceptions) listed in paragraph (c) are available to overcome the license requirements of § 746.6 of the EAR. New paragraph (d) defines the terms `Covered Regions of Ukraine' and `software necessary to enable the exchange of personal communications over the internet' for purposes of this provision.

The license requirements imposed under part 746 of the EAR are independent of the Commerce Control List (CCL)-based license requirements. However, this rule revises the cross reference to § 746.6 by revising footnote 8 to the Commerce Country Chart in supplement No. 1 to part 738. This footnote 8 makes persons aware of the additional part 746 license requirements under § 746.6 that apply for the `Crimea region of Ukraine and the Covered Regions of Ukraine.' When applying for a license to the Crimea region of Ukraine or the Covered Regions of Ukraine, applicants should select `Crimea, DNR, and LNR regions' in the drop-down menu option under the country of Ukraine in the Simplified Network Application Processing System (SNAP-R).

This final rule, as a conforming change to the addition of § 746.6 and the restrictions under paragraph (c), adds `the Covered Regions of Ukraine' to the general restriction on the use of license exceptions in § 740.2 of the EAR for sanctioned countries by revising the parenthetical phrase “(Cuba, Iran, North Korea, Syria, and Crimea region).” This final rule adds `the Covered Regions of Ukraine' to this parenthetical phrase because the license requirements under § 746.6 apply to all items subject to the EAR, and the only license exceptions available to overcome the license requirement are those specified in § 746.6.

In addition to the EAR controls that this final rule is adding to § 746.6, exporters, reexporter and transferors will also be required to ensure that any transaction with Crimea and `the Covered Regions of Ukraine' occurs in accordance with all applicable OFAC requirements. BIS and OFAC both exercise licensing jurisdiction for the Crimea region of Ukraine and for “the Covered Regions of Ukraine,” so for most exports, reexports and transfers (in-country), an authorization will be required from both BIS and OFAC.

Lastly, this final rule revises the definition of “Food” in § 772.1 to include a reference to `the Covered Regions of Ukraine' along with North Korea, Syria, and Crimea that are referenced in the definition. BIS estimates that these new controls for the § 746.6 will result in an additional 20 license applications being submitted to BIS annually.

G. Russia: Amendments to Supplement No. 1 to Part 740 of the EAR Consistent With the ITAR § 126.1

In supplement no. 1 to part 740, this final rule updates the Country Group designation for Russia to reflect its identification by the Department of State as a country subject to a United States arms embargo. BIS harmonizes the arms embargo-related provisions in the EAR with the Directorate of Defense Trade Control's (DDTC's) regulation of arms embargoes in § 126.1 of the International Traffic in Arms Regulations (ITAR) (22 CFR 126.1, Prohibited Exports, Imports, and Sales to or from Certain Countries). ITAR § 126.1 includes countries subject to United Nations Security Council (UNSC) and U.S. arms embargoes. BIS primarily implements such controls through Country Group D:5 “U.S. Arms Embargoed Countries,” in supplement no. 1 to part 740 of the EAR. With this rule, BIS revises Country Group D to add Russia to Country Group D:5 consistent with the Department of State's amendments adding this country to ITAR § 126.1 on March 18, 2021 (86 FR 14802).

Countries listed in Country Group D:5 are subject to additional restrictions in the EAR, including with respect to de minimis U.S. content, license exception availability, and licensing policy for certain items. For example, license applications for the export or reexport of items classified under 9x515 or “600 series” Export Control Classification Numbers (ECCNs) to countries in Country Group D:5 are reviewed consistent with the policies in § 126.1 of the ITAR, as provided in paragraph (b)(1)(ii) of § 742.4 of the EAR.

Savings Clause

For the sanctions against Russia added under § 746.8(a)(2) and (3), shipments of items removed from eligibility for a License Exception or reexport or transfer (in-country) without a license (NLR) as a result of this regulatory action that were en route aboard a carrier to a port of export, reexport, or transfer (in-country), on March 26, 2022, pursuant to actual orders for reexport, or transfer (in-country) to or within a foreign destination, may proceed to that destination under the previous eligibility for a License Exception or reexport or transfer (in-country) without a license (NLR).

For all other changes being made in this final rule, shipments of items removed from eligibility for a License Exception or export, reexport, or transfer (in-country) without a license (NLR) as a result of this regulatory action that were en route aboard a carrier to a port of export, reexport, or transfer (in-country), on February 24, 2022, pursuant to actual orders for export, reexport, or transfer (in-country) to or within a foreign destination, may proceed to that destination under the previous eligibility for a License Exception or export, reexport, or transfer (in-country) without a license (NLR).

Export Control Reform Act of 2018

On August 13, 2018, the President signed into law the John S. McCain National Defense Authorization Act for Fiscal Year 2019, which included the Export Control Reform Act of 2018 (ECRA) (codified, as amended, at 50 U.S.C. Sections 4801-4852). ECRA provides the legal basis for BIS's principal authorities and serves as the authority under which BIS issues this rule. To the extent it applies to certain activities that are the subject of this rule, the Trade Sanctions Reform and Export Enhancement Act of 2000 (TSRA) (codified, as amended, at 22 U.S.C. Sections 7201-7211) also serves as authority for this rule. This action also implements measures pursuant to the International Emergency Economic Powers Act, 50 U.S.C. 1701 et seq., and the emergency expanded upon by Executive Order 14065 of February 21, 2022.

Rulemaking Requirements

1. This final rule is not a “significant regulatory action” because it “pertain[s]” to a “military or foreign affairs function of the United States” under sec. 3(d)(2) of Executive Order 12866.

2. Notwithstanding any other provision of law, no person is required to respond to, nor shall any person be subject to a penalty for failure to comply with, a collection of information subject to the requirements of the Paperwork Reduction Act of 1995 (44 U.S.C. 3501 et seq.) (PRA), unless that collection of information displays a currently valid Office of Management and Budget (OMB) Control Number.

This rule involves the following OMB-approved collections of information subject to the PRA: 0694-0088, “Multi-Purpose Application,” which carries a burden hour estimate of 29.6 minutes for a manual or electronic submission; 0694-0096 “Five Year Records Retention Period,” which carries a burden hour estimate of less than 1 minute; and 0607-0152 “Automated Export System (AES) Program,” which carries a burden hour estimate of 3 minutes per electronic submission. This rule changes the respondent burden under these control numbers by increasing the estimated number of submissions by 2,445. Specifically, BIS estimates that these new controls on Russia under the EAR will result in an increase of 2,445 license applications submitted annually to BIS. BIS estimates the burden hours associated with these collections would increase by 1,247 (i.e., 2,445 applications × 30.6 minutes per response) for a total estimated cost increase of $37,410 (i.e., 1,247 hours × $30 per hour). The $30 per hour cost estimate for OMB control number 0694-0088 is consistent with the salary data for export compliance specialists currently available through glassdoor.com (glassdoor.com estimates that an export compliance specialist makes $55,280 annually, which computes to roughly $26.58 per hour). This increase is expected to exceed the existing estimates currently associated with OMB control numbers 0694-0088, but not for 0694-0096 and 0607-0152 which have minimal burden increases as a result of this rule. Consistent with 5 CFR 1320.13, BIS requested emergency clearance for an increase in the burden estimate under collection 0694-0088 because of the additional license requirements imposed by this rule. OMB has approved the emergency collection for the increase in the total number of licenses.

3. This rule does not contain policies with federalism implications as that term is defined in Executive Order 13132.

4. Pursuant to section 1762 of the Export Control Reform Act of 2018 (50 U.S.C. 4821) (ECRA), this action is exempt from the Administrative Procedure Act (APA) (5 U.S.C. 553) requirements for notice of proposed rulemaking, opportunity for public participation, and delay in effective date. While section 1762 of ECRA provides sufficient authority for such an exemption, this action is also independently exempt from these APA requirements because it involves a military or foreign affairs function of the United States (5. U.S.C. 553(a)(1)).

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required and none has been prepared.

List of Subjects

15 CFR Part 734

Administrative practice and procedure, Exports, Inventions and patents, Research, Science and technology.

15 CFR Parts 738 and 772

Exports.

15 CFR Part 740

Administrative practice and procedure, Exports, Reporting and recordkeeping requirements.

15 CFR Part 742

Exports, Terrorism.

15 CFR Part 744

Exports, Reporting and recordkeeping requirements, Terrorism.

15 CFR Part 746

Exports, Reporting and recordkeeping requirements.

For the reasons stated in the preamble, parts 734, 738, 740, 742, 744, 746, and 772 of the Export Administration Regulations (15 CFR parts 730 through 774) are amended as follows:

PART 734—SCOPE OF THE EXPORT ADMINISTRATION REGULATIONS

1. The authority citation for 15 CFR part 734 continues to read as follows:

Authority: 50 U.S.C. 4801-4852; 50 U.S.C. 4601 et seq.; 50 U.S.C. 1701 et seq.; E.O. 12938, 59 FR 59099, 3 CFR, 1994 Comp., p. 950; E.O. 13020, 61 FR 54079, 3 CFR, 1996 Comp., p. 219; E.O. 13026, 61 FR 58767, 3 CFR, 1996 Comp., p. 228; E.O. 13222, 66 FR 44025, 3 CFR, 2001 Comp., p. 783; E.O. 13637, 78 FR 16129, 3 CFR, 2014 Comp., p. 223; Notice of November 10, 2021, 86 FR 62891 (November 12, 2021).

2. Section 734.9 is amended as follows:

a. In paragraph (e)(1)(ii), remove the text “ “direct product” of “technology” or “software” subject to the EAR” and add, in its place, the text “ “direct product” of U.S.-origin “technology” or “software”.

b. Add paragraphs (f) and (g).

The additions read as follows:

§ 734.9 Foreign-Direct Product (FDP) Rules.

* * * * *

(f) Russia FDP rule. A foreign-produced item is subject to the EAR if it meets both the product scope in paragraph (f)(1) of this section and the destination scope in paragraph (f)(2) of this section. See § 746.8 of the EAR for license requirements, license review policy, and license exceptions applicable to foreign-produced items that are subject to the EAR pursuant to this paragraph (f).

(1) Product scope of Russia FDP rule. The product scope applies if a foreign-produced item meets the conditions of either paragraph (f)(1)(i) or (ii) of this section.

(i) “Direct product” of “technology” or “software.” A foreign-produced item meets the product scope of this paragraph (f)(1)(i) if the foreign-produced item is not designated EAR99 and is a “direct product” of U.S.-origin “technology” or “software” subject to the EAR that is specified in any ECCN in product groups D or E in Categories 3, 4, 5, 6, 7, 8, or 9 of the CCL; or

(ii) “Direct product” of a complete plant or `major component' of a plant. A foreign-produced item, meets the product scope of this paragraph (f)(1)(ii) if the foreign-produced item is not designated EAR99 and is produced by any plant or `major component' of a plant that is located outside the United States, when the plant or `major component' of a plant, whether made in the United States or a foreign country, itself is a “direct product” of U.S.-origin “technology” or “software” subject to the EAR that is specified in any ECCN in product groups D or E in Categories 3, 4, 5, 6, 7, 8, or 9 of the CCL.

(2) Destination scope of the Russia FDP rule. A foreign-produced item meets the destination scope of this paragraph (f)(2) if there is “knowledge” that the foreign-produced item is destined to Russia or will be incorporated into or used in the “production” or “development” of any “part,” “component,” or “equipment” not designated EAR99 and produced in or destined to Russia.

(g) Russia-Military End User FDP rule. A foreign-produced item is subject to the EAR if it meets both the product scope in paragraph (g)(1) of this section and the end-user scope in paragraph (g)(2) of this section. See § 746.8 of the EAR for license requirements, license review policy, and license exceptions applicable to foreign-produced items that are subject to the EAR pursuant to this paragraph (g).

(1) Product Scope of Russia-Military End User FDP rule. The product scope applies if a foreign-produced item meets the conditions of either paragraph (g)(1)(i) or (ii) of this section.

(i) “Direct product” of “technology” or “software.” A foreign-produced item meets the product scope of this paragraph (g)(1)(i) if the foreign-produced item is a “direct product” of “technology” or “software” subject to the EAR and specified in any ECCN in product groups D or E in any categories of the CCL; or

(ii) “Direct product” of a complete plant or `major component' of a plant. A foreign-produced item meets the product scope of this paragraph (g)(1)(ii) if the foreign-produced item is produced by any plant or `major component' of a plant that is located outside the United States, when the plant or `major component' of a plant, whether made in the United States or a foreign country, itself is a “direct product” of U.S.-origin “technology” or “software” subject to the EAR that is specified in any ECCN in product groups D or E in any categories of the CCL.

(2) End-user scope of the Russia `Military End User' FDP rule. A foreign-produced item meets the end-user scope of this paragraph (g)(2) if there is “knowledge” that:

(i) Activities involving footnote 3 designated entities. The foreign-produced item will be incorporated into, or used in the “production” or “development” of any “part,” “component,” or “equipment” produced, purchased, or ordered by any entity with a footnote 3 designation in the license requirement column of the Entity List in Supplement No. 4 to part 744 of the EAR; or

(ii) Footnote 3 designated entities as transaction parties. Any entity with a footnote 3 designation in the license requirement column of the Entity List in Supplement No. 4 to part 744 of the EAR is a party to any transaction involving the foreign-produced item, e.g., as a “purchaser,” “intermediate consignee,” “ultimate consignee,” or “end-user.”

Note 3 to paragraph (g). A `military end user' for purposes of paragraph (g) is any entity listed on the Entity List in Supplement No. 4 to part 744 of the EAR under Russia with a footnote 3 designation.

3. Supplement No. 2 to part 734 is amended by revising the third and fourth sentences of paragraph (a)(1) to read as follows:

Supplement No. 2 to Part 734—Guidelines for De Minimis Rules

(a) * * *

(1) * * * For purposes of identifying U.S.-origin controlled content, you should consult the Commerce Country Chart in Supplement No. 1 to part 738 of the EAR and controls described in part 746 of the EAR (excluding U.S.-origin content that meets the criteria in § 746.8(a)(5)). Part 744 of the EAR should not be used to identify controlled U.S. content for purposes of determining the applicability of the de minimis rules. * * *

* * * * *

PART 738—COMMERCE CONTROL LIST OVERVIEW AND THE COUNTRY CHART

4. The authority citation for 15 CFR part 738 continues to read as follows:

Authority: 50 U.S.C. 4801-4852; 50 U.S.C. 4601 et seq.; 50 U.S.C. 1701 et seq.; 10 U.S.C. 8720; 10 U.S.C. 8730(e); 22 U.S.C. 287c; 22 U.S.C. 2151 note; 22 U.S.C. 3201 et seq.; 22 U.S.C. 6004; 42 U.S.C. 2139a; 15 U.S.C. 1824; 50 U.S.C. 4305; 22 U.S.C. 7201 et seq.; 22 U.S.C. 7210; E.O. 13026, 61 FR 58767, 3 CFR, 1996 Comp., p. 228; E.O. 13222, 66 FR 44025, 3 CFR, 2001 Comp., p. 783.

5. Supplement no. 1 to part 738 is amended by revising footnotes 6 and 8 to read as follows:

Supplement No. 1 to Part 738—Commerce Country Chart

* * * * *

⁶ See § 746.5 of the EAR for additional license requirements under the Russian Industry Sector Sanctions for ECCNs 0A998, 1C992, 3A229, 3A231, 3A232, 6A991, 8A992, and 8D999 and items identified in Supplement No. 2 to part 746 of the EAR. See § 746.8 of the EAR for Sanctions against Russia, including additional license requirements for items listed in any ECCN in Categories 3, 4, 5, 6, 7, 8, or 9 of the CCL.

* * * * *

⁸ See § 746.6 of the EAR for additional license requirements for exports and reexports to the Crimea region of Ukraine and the so-called Donetsk People's Republic (DNR) and Luhansk People's Republic (LNR) regions of Ukraine and transfers (in-country) within the Crimea, DNR, and LNR regions of Ukraine for all items subject to the EAR, other than food and medicine designated as EAR99 and certain EAR99 or ECCN 5D992.c software for internet-based communications.

PART 740—LICENSE EXCEPTIONS

6. The authority citation for 15 CFR part 740 continues to read as follows:

Authority: 50 U.S.C. 4801-4852; 50 U.S.C. 4601 et seq.; 50 U.S.C. 1701 et seq.; 22 U.S.C. 7201 et seq.; E.O. 13026, 61 FR 58767, 3 CFR, 1996 Comp., p. 228; E.O. 13222, 66 FR 44025, 3 CFR, 2001 Comp., p. 783.

7. Section 740.2 is amended by revising paragraph (a)(6) to read as follows:

§ 740.2 Restrictions on all License Exceptions.

(a) * * *

(6) The export or reexport is to a sanctioned destination (Cuba, Iran, North Korea, Syria, Crimea region of Ukraine, and the so-called Donetsk People's Republic (DNR) and Luhansk People's Republic (LNR) regions of Ukraine) or a license is required based on a limited sanction (Russia) unless a license exception or portion thereof is specifically listed in the license exceptions paragraph pertaining to a particular sanctioned country in part 746 of the EAR.

* * * * *

8. Section 740.19 is amended by revising paragraphs (a), (b) introductory text, and (c) to read as follows:

§ 740.19 Consumer Communications Devices (CCD).

(a) Authorizations. This section authorizes the export, reexport, or transfer (in-country) of commodities and software to Cuba and Russia subject to the requirements stated in this section. This section does not authorize U.S. owned or controlled entities in third countries to engage in reexports of foreign produced commodities to Cuba for which no license would be issued by the Department of the Treasury pursuant to 31 CFR 515.559.

(b) Eligible commodities and software. Commodities and software in paragraphs (b)(1) through (17) of this section are eligible for export, reexport, or transfer (in-country) under this section to and within Cuba and Russia.

* * * * *

(c) Eligible and ineligible end users—(1) Organizations. (i) The license exception in this section may be used to export, reexport, or transfer (in-country) eligible commodities and software to and for the use of independent non-governmental organizations in Cuba or Russia.

(ii) The Cuban Government, the Cuban Communist Party, the Russian Government, and organizations administered or controlled by the Cuban Government, the Cuban Communist Party, or the Russian Government are not eligible end users.

(iii) [Reserved]

(2) Individuals. The license exception in this section may be used to export, reexport or transfer (in-country) eligible commodities and software to and for the use of individuals other than the following:

(i) Ineligible Cuban Government officials. Ministers and Vice-Ministers; members of the Council of State; members of the Council of Ministers; members and employees of the National Assembly of People's Power; members of any provincial assembly; local sector chiefs of the Committees for the Defense of the Revolution; Director Generals and sub-Director Generals and higher of all Cuban ministries and state agencies; employees of the Ministry of the Interior (MININT); employees of the Ministry of Defense (MINFAR); secretaries and first secretaries of the Confederation of Labor of Cuba (CTC) and its component unions; chief editors, editors and deputy editors of Cuban state-run media organizations and programs, including newspapers, television, and radio; or members and employees of the Supreme Court (Tribuno Supremo Nacional).

(ii) Ineligible Cuban Communist Party officials. Members of the Politburo.

(iii) Ineligible Russian Government officials. The President, Prime Minister, and Deputy Prime Ministers; Federal Ministers; Chairman, Deputy Chairman, and Secretary of the Security Council; members and employees of the Federal Assembly (the State Duma and the Federation Council); members and employees of the Supreme Court and the Constitutional Court; Chief and all employees of the General Staff of the armed forces; employees of the Ministry of Defence; Director and employees of the Federal Security Service, Director and employees of the Foreign Intelligence Service; employees of the Ministry of the Interior; employees of state committees, chief editors, editors and deputy editors of Russian state-run media organizations and programs, including newspapers, television, and radio; offices, services, agencies and other entities organized under or reporting to the federal government.

9. Supplement no. 1 to part 740 is amended by revising the entry for “Russia” and footnote 1 in the Country Group D table to read as follows:

Supplement No. 1 to Part 740—Country Groups

* * * * *

Country Group D
Country | [D:1] National security | [D:2] Nuclear | [D:3] Chemical & biological | [D:4] Missile technology | [D:5] U.S. arms embargoed countries ¹
* * * * * * *
Russia | X | X | X | X | X
* * * * * * *
¹ Note to Country Group D:5: Countries subject to U.S. arms embargoes are identified by the State Department through notices published in the Federal Register. The list of arms embargoed destinations in this table is drawn from 22 CFR 126.1 and State Department Federal Register notices related to arms embargoes (compiled at www.pmddtc.state.gov/embargoed_countries/index.html) and will be amended when the State Department publishes subsequent notices. If there are any discrepancies between the list of countries in this table and the countries identified by the State Department as subject to a U.S. arms embargo (in the Federal Register), the State Department's list of countries subject to U.S. arms embargoes shall be controlling.

* * * * *

PART 742—CONTROL POLICY—CCL BASED CONTROLS

10. The authority citation for 15 CFR part 742 is revised to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; Sec. 1503, Pub. L. 108-11, 117 Stat. 559; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13222, 66 FR 44025, 3 CFR, 2001 Comp., p. 783; Presidential Determination 2003-23, 68 FR 26459, 3 CFR, 2004 Comp., p. 320; Notice of November 10, 2021, 86 FR 62891 (November 12, 2021).

11. Section 742.2 is amended by revising paragraph (b)(4) to read as follows:

§ 742.2 Proliferation of chemical and biological weapons.

* * * * *

(b) * * *

(4) License applications for items described in paragraph (a) of this section, when destined for the People's Republic of China will be reviewed in accordance with the licensing policies in both paragraph (b) of this section and § 742.4(b)(7). When such items are destined to Russia, license applications will be reviewed under a policy of denial. However, exports and reexports of items to Russia in support of U.S.-Russia civil space cooperation activities will be reviewed on a case-by-case basis, as well as certain other certain specified activities specified in § 746.8 of the EAR. See § 746.8(b).

* * * * *

12. Section 742.3 is amended by revising paragraph (b)(4) to read as follows:

§ 742.3 Nuclear nonproliferation.

* * * * *

(b) * * *

(4) License applications for items described in paragraph (a) of this section, when destined for the People's Republic of China will be reviewed in accordance with the licensing policies in both paragraph (b) of this section and § 742.4(b)(7). When such items are destined to Russia, license applications will be reviewed under a policy of denial. However, exports and reexports of items to Russia in support of U.S.-Russia civil space cooperation activities will be reviewed on a case-by-case basis. See § 746.8(b) of the EAR.

* * * * *

13. Section 742.4 is amended by revising paragraph (b)(7)(i) and adding paragraph (b)(9) to read as follows:

§ 742.4 National security.

* * * * *

(b) * * *

(7)(i) For Burma, Cambodia, the People's Republic of China (China), and Venezuela, all applications will be reviewed to determine the risk of diversion to a military end user or military end use. There is a general policy of approval for license applications to export, reexport, or transfer items determined to be for civil end users for civil end uses. There is a presumption of denial for license applications to export reexport, or transfer items that would make a material contribution to the “development,” “production,” maintenance, repair, or operation of weapons systems, subsystems, and assemblies, such as, but not limited to, those described in supplement no. 7 to this part, of Burma, Cambodia, China, or Venezuela.

* * * * *

(9) For the Russian Federation, all applications will be reviewed in accordance with the licensing policy set forth in § 746.8(b) of the EAR.

* * * * *

14. Section 742.5 is amended by revising paragraph (b)(5) to read as follows:

§ 742.5 Missile technology.

* * * * *

(b) * * *

(5) License applications for items described in paragraph (a) of this section, when destined for the People's Republic of China, will be reviewed in accordance with the licensing policies in both paragraph (b) of this section and § 742.4(b)(7). When such items are destined to Russia, license applications will be reviewed under a policy of denial. However, exports and reexports of items to Russia in support of U.S.-Russia civil space cooperation activities will be reviewed on a case-by-case basis. See § 746.8(b).

* * * * *

15. Section 742.6 is amended by revising paragraph (b)(8) and adding paragraph (b)(9) to read as follows:

§ 742.6 Regional stability.

* * * * *

(b) * * *

(8) China or Venezuela. Applications to export or reexport items described in paragraph (a)(7) of this section to China or Venezuela will be reviewed on a case-by-case basis to determine whether the transaction is contrary to the national security or foreign policy interests of the United States, including the foreign policy interest of promoting the observance of human rights throughout the world. Such applications will also be reviewed consistent with United States arms embargo policies in § 126.1 of the ITAR (22 CFR 126.1). When destined to China, items classified under any 9x515.y ECCN will be subject to a policy of denial consistent with paragraph (b)(1) of this section.

(9) Russia. Applications to export or reexport items described in paragraph (a)(7) of this section will be reviewed pursuant to the licensing policy set forth in § 746.8(b) of the EAR, as well as the foreign policy interest of promoting the observance of human rights throughout the world and consistent with United States arms embargo policies in § 126.1 of the ITAR (22 CFR 126.1).

* * * * *

PART 744—END USE AND END USER CONTROLS

16. The authority citation for 15 CFR part 744 continues to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 15, 2021, 86 FR 52069 (September 17, 2021); Notice of November 10, 2021, 86 FR 62891 (November 12, 2021).

17. Section 744.21 is revised to read as follows:

§ 744.21 Restrictions on certain `military end use' or `military end user' in Burma, Cambodia, the People's Republic of China, the Russian Federation, or Venezuela.

(a) General prohibition. In addition to the license requirements for items specified on the Commerce Control List (CCL) (supplement no. 1 to this part), you may not export, reexport, or transfer (in-country) any item subject to the EAR listed in supplement no. 2 to this part to Burma, Cambodia, the People's Republic of China (China), or Venezuela, or any item “subject to the EAR” except for food or medicine designated as EAR99, or ECCN 5A992.c and 5D992.c unless for Russian “government end users” and Russian state-owned enterprises (SoEs) to the Russian Federation, without a license if, at the time of the export, reexport, or transfer (in-country), you have “knowledge,” as defined in § 772.1 of the EAR, that the item is intended, entirely or in part, for a `military end use,' as defined in paragraph (f) of this section, or a `military end user,' as defined in paragraph (g) of this section, in Burma, Cambodia, China, the Russian Federation, or Venezuela.

(b) Additional prohibition on those informed by BIS. BIS may inform you either individually by specific notice, through amendment to the EAR published in the Federal Register, or through a separate notification published in the Federal Register, that a license is required for specific exports, reexports, or transfers (in-country) of any item because there is an unacceptable risk of use in or diversion to a `military end use' or `military end user' in Burma, Cambodia, China, the Russian Federation, or Venezuela. Specific notice will be given only by, or at the direction of, the Deputy Assistant Secretary for Export Administration. When such notice is provided orally, it will be followed by written notice within two working days signed by the Deputy Assistant Secretary for Export Administration or the Deputy Assistant Secretary's designee. The absence of BIS notification does not excuse the exporter from compliance with the license requirements of paragraph (a) of this section.

(1) `Military End-User' (MEU) List and Entity List. BIS may inform and provide notice to the public that certain entities are subject to the additional prohibition described under this paragraph (b) following a determination by the End-User Review Committee (ERC) that a specific entity is a `military end user' pursuant to this section and therefore any exports, reexports, or transfers (in-country) to that entity represent an unacceptable risk of use in or diversion to a `military end use' or `military end user' in Burma, Cambodia, China, the Russian Federation or Venezuela. Such entities in Burma, Cambodia, China, or Venezuela may be added to supplement no. 7 to this part—`Military End-User' (MEU) List. Such entities in the Russian Federation may be added to supplement No. 4 to this part—Entity List. License requirements for listed MEU are described in paragraph (b)(1)(ii) of this section. The listing of entities under supplement no. 7 or 4 to this part is not an exhaustive listing of `military end users' for purposes of this section. Exporters, reexporters, and transferors are responsible for determining whether transactions with entities not listed on supplement no. 7 or 4 to this part are subject to a license requirement under paragraph (a) of this section. The process in this paragraph (b)(1) for placing entities on the MEU List and Entity List is only one method BIS may use to inform exporters, reexporters, and transferors of license requirements under this section.

(i) End-User Review Committee (ERC). The End-User Review Committee (ERC), composed of representatives of the Departments of Commerce (Chair), State, Defense, Energy and, where appropriate, the Treasury, makes all decisions regarding additions to, removals from, or other modifications to the MEU List and Entity List. Decisions by the ERC for purposes of the MEU List and Entity List will be made following the procedures identified in this section and in supplement no. 5 to this part—Procedures for End-User Review Committee Entity List and `Military End User' (MEU) List Decisions.

(ii) License requirement for parties to the transaction. Consistent with paragraph (a) of this section, a license is required for the export, reexport, or transfer (in-country) of any item subject to the EAR listed in supplement no. 2 to this part when an entity that is listed on the MEU List under Burma, Cambodia, the People's Republic of China (China), or Venezuela is a party to the transaction as described in § 748.5(c) through (f) of the EAR. Consistent with paragraph (a) of this section, a license is required for the export, reexport, or transfer (in-country) of any item subject to the EAR except for food or medicine designated as EAR99, or ECCN 5A992.c and 5D992.c unless for Russian “government end users” and Russian state-owned enterprises (SoEs) to Russia when an entity that is listed on the Entity List under Russia pursuant to this section is a party to the transaction as described in § 748.5(c) through (f) of the EAR.

(2) Requests for removal from or modification of `Military End User' (MEU) List and Entity List. Any entity listed on the MEU List or Entity List pursuant to this section may request that its listing be removed or modified. All such requests, including reasons therefor, must be in writing and sent to: Chair, End-User Review Committee, Bureau of Industry and Security, U.S. Department of Commerce, 14th Street and Pennsylvania Avenue NW, Room 3886, Washington, DC 20230; or by email at ERC@bis.doc.gov. In order for an entity listed on the MEU List or the Entity List pursuant to this section to petition BIS for their removal or modification, as applicable, the entity must address why the entity is not a `military end user' for purposes of this section.

(i) Review. The ERC will review such requests for removal or modification in accordance with the procedures set forth in supplement no. 5 to this part.

(ii) BIS action. The Deputy Assistant Secretary for Export Administration will convey the decision on the request to the requester in writing. That decision will be the final agency action on the request.

(c) License exception. Despite the prohibitions described in paragraphs (a) and (b) of this section, you may export, reexport, or transfer (in-country) items subject to the EAR under the provisions of License Exception GOV set forth in § 740.11(b)(2)(i) and (ii) of the EAR.

(d) License application procedure. When submitting a license application pursuant to this section, you must state in the “additional information” block of the application that “this application is submitted because of the license requirement in this section (Restrictions on a 'Military End Use' or `Military End User' in Burma, Cambodia, the People's Republic of China, the Russian Federation, or Venezuela).” In addition, either in the additional information block of the application or in an attachment to the application, you must include all known information concerning the `military end use' and `military end user(s)' of the item(s). If you submit an attachment with your license application, you must reference the attachment in the “additional information” block of the application.

(e) License review standards. (1) Applications to export, reexport, or transfer (in-country) items to or within Burma, Cambodia, the People's Republic of China (China), or Venezuela described in paragraph (a) of this section will be reviewed with a presumption of denial. Applications to export, reexport, or transfer (in-country) items to or within Russia described in paragraph (a) of this section will be reviewed with a policy of denial.

(2) Applications may be reviewed under chemical and biological weapons, nuclear nonproliferation, or missile technology review policies, as set forth in §§ 742.2(b)(4), 742.3(b)(4), and 742.5(b)(4) of the EAR, if the end use may involve certain proliferation activities.

(3) Applications for items requiring a license for any reason that are destined to Burma, Cambodia, China, the Russian Federation, or Venezuela for a `military end use' or `military end user' also will be subject to the review policy stated in paragraph (e)(1) of this section.

(f) Military end use. In this section, 'military end use' means: Incorporation into a military item described on the U.S. Munitions List (USML) (22 CFR part 121, International Traffic in Arms Regulations); incorporation into items classified under Export Control Classification Numbers (ECCNs) ending in “A018” or under “600 series” ECCNs; or any item that supports or contributes to the operation, installation, maintenance, repair, overhaul, refurbishing, “development,” or “production,” of military items described on the USML, or items classified under ECCNs ending in “A018” or under “600 series” ECCNs.

(g) Military end user. In this section, the term `military end user' means the national armed services (army, navy, marine, air force, or coast guard), as well as the national guard and national police, government intelligence or reconnaissance organizations (excluding those described in § 744.22(f)(2)), or any person or entity whose actions or functions are intended to support `military end uses' as defined in paragraph (f) of this section.

(h) Effects on contracts. Transactions involving the export, reexport, or transfer (in country) of items to or within Venezuela are not subject to the provisions of this section if the contracts for such transactions were signed prior to November 7, 2014.

18. Supplement No. 4 to part 744 is amended:

a. Under Russia:

i. By adding in alphabetical order entries for “Admiralty Shipyard JSC;” “Aleksandrov Scientific Research Technological Institute NITI;” “Argut OOO;” “Communication Center of the Ministry of Defence;” “Federal Research Center Boreskov Institute of Catalysis;”

ii. By revising the entry for “Federal Security Service (FSB);”

iii. By adding in alphabetical order entries for “Federal State Budgetary Enterprise of the Administration of the President of Russia;” ” Federal State Budgetary Enterprise Special Flight Unit Rossiya of the Administration of the President of Russia;” “Federal State Unitary Enterprise Dukhov Automatics Research Institute (VNIIA);” “Foreign Intelligence Service (SVR);” “Forensic Center of Nizhniy Novgorod Region Main Directorate of the Ministry of Interior Affairs;” “International Center for Quantum Optics and Quantum Technologies LLC;” “Irkut Corporation;” “Irkut Research and Production Corporation Public Joint Stock Company;” “Joint Stock Company Scientific Research Institute of Computing Machinery;” “JSC Central Research Institute of Machine Building (JSC TsNIIMash);” “JSC Kazan Helicopter Plant Repair Service;” “JSC Rocket and Space Centre—Progress;” “Kamensk-Uralsky Metallurgical Works J.S. Co.;” “Kazan Helicopter Plant PJSC;” “Komsomolsk-na-Amur Aviation Production Organization (KNAAPO);”

iv. By revising the entry for “Main Intelligence Directorate;” and

v. By adding in alphabetical order entries for “Ministry of Defence of the Russian Federation;” “Moscow Institute of Physics and Technology;” “NPO High Precision Systems JSC;” “NPO Splav JSC;” “Oboronprom OJSC;” “PJSC Beriev Aircraft Company;” “PJSC Irkut Corporation;” “PJSC Kazan Helicopters;” “POLYUS Research Institute of M.F. Stelmakh Joint Stock Company;” “Promtech-Dubna, JSC;” “Public Joint Stock Company United Aircraft Corporation;” “Radiotechnical and Information Systems (RTI) Concern;” “Rapart Services LLC;” “Rosoboronexport OJSC (ROE);” “Rostec (Russian Technologies State Corporation);” “Rostekh—Azimuth;” “Russian Aircraft Corporation MiG;” “Russian Helicopters JSC;” “SP Kvant;” “Sukhoi Aviation JSC;” “Sukhoi Civil Aircraft;” “Tactical Missiles Corporation JSC;” “Tupolev JSC;” “UEC-Saturn;” “United Aircraft Corporation;” “United Engine Corporation;” and “United Instrument Manufacturing Corporation”; and

b. By adding footnote 3.

The additions read as follows:

Supplement No. 4 to Part 744—Entity List

* * * * *

Country | Entity | License requirement | License review policy | Federal Register citation
* * * * * * *
RUSSIA | * * * * * *
| Admiralty Shipyard JSC, 203, Fontanka Emb., 190121, St. Peterburg, Russia. | All items subject to the EAR except for food or medicine designated as EAR99. (See §§ 734.9(g),³ 746.8(a)(3), and 744.21(b) of the EAR) | Policy of denial. See §§ 746.8(b) and 744.21(e) | 87 FR [INSERT FR PAGE NUMBER], 3/3/2022.
| * * * * * *
| Aleksandrov Scientific Research Technological Institute NITI, Koporskoe Highway, House 72, Sosnovy Bor, Russia. | All items subject to the EAR except for food or medicine designated as EAR99. (See §§ 734.9(g),³ 746.8(a)(3), and 744.21(b) of the EAR) | Policy of denial. See §§ 746.8(b) and 744.21(e) | 87 FR [INSERT FR PAGE NUMBER], 3/3/2022.
| * * * * * *
| Argut OOO, 6 Mnevniki str end 6 fl, Moscow 123308, Russia. | All items subject to the EAR except for food or medicine designated as EAR99, or ECCN 5A992.c and 5D992.c unless for Russian “government end users” and Russian state-owned enterprises (SoEs) to Russia. (See §§ 734.9(g),³ 746.8(a)(3), and 744.21(b) of the EAR) | Policy of denial. See §§ 746.8(b) and 744.21(e) | 87 FR [INSERT FR PAGE NUMBER], 3/3/2022.
| * * * * * *
| Communication Center of the Ministry of Defence, Bolshoi Znamenskiy per. 21, Moscow, Russia. | All items subject to the EAR except for food or medicine designated as EAR99. (See §§ 734.9(g),³ 746.8(a)(3), and 744.21(b) of the EAR) | Policy of denial. See §§ 746.8(b) and 744.21(e) | 87 FR [INSERT FR PAGE NUMBER], 3/3/2022.
| * * * * * *
| Federal Research Center Boreskov Institute of Catalysis, pr. Lavrentieva 5, Novosibirsk 630090, Russia. | All items subject to the EAR except for food or medicine designated as EAR99. (See §§ 734.9(g),³ 746.8(a)(3), and 744.21(b) of the EAR) | Policy of denial. See §§ 746.8(b) and 744.21(e) | 87 FR [INSERT FR PAGE NUMBER], 3/3/2022.
| Federal Security Service (FSB), a.k.a., the following one alias: —Federalnaya Sluzhba Bezopasnosti. Ulitsa Kuznetskiy Most, Dom 22, Moscow 107031, Russia; and Lubyanskaya Ploschad, Dom 2, Moscow 107031, Russia. | All items subject to the EAR, apart from items that are related to transactions that are authorized by the Department of the Treasury's Office of Foreign Assets Control pursuant to General License No. 1B of March 2, 2021 and except for food or medicine designated as EAR99. (See §§ 734.9(g),³ 746.8(a)(3), and 744.21(b) of the EAR) | Presumption of denial | 82 FR 724, 1/4/17. 82 FR 18219, 4/18/17. 86 FR 37903, 7/19/21. 87 FR [INSERT FR PAGE NUMBER], 3/3/2022.
| * * * * * *
| Federal State Budgetary Enterprise of the Administration of the President of Russia, 1-ya Reysovaya Street, 1, Moscow 119027, Russia. | All items subject to the EAR except for food or medicine designated as EAR99. (See §§ 734.9(g),³ 746.8(a)(3), and 744.21(b) of the EAR) | Policy of denial. See §§ 746.8(b) and 744.21(e) | 87 FR [INSERT FR PAGE NUMBER], 3/3/2022].
| Federal State Budgetary Enterprise Special Flight Unit Rossiya of the Administration of the President of Russia, 1-ya Reysovaya Street, 1, Moscow 119027, Russia. | All items subject to the EAR except for food or medicine designated as EAR99. (See §§ 734.9(g),³ 746.8(a)(3), and 744.21(b) of the EAR) | Policy of denial. See §§ 746.8(b) and 744.21(e) | 87 FR [INSERT FR PAGE NUMBER], 3/3/2022.
| Federal State Unitary Enterprise Dukhov Automatics Research Institute (VNIIA), 22, Sushchevskaya UI, Moscow 127055RU. | All items subject to the EAR except for food or medicine designated as EAR99. (See §§ 734.9(g),³ 746.8(a)(3), and 744.21(b) of the EAR) | Policy of denial. See §§ 746.8(b) and 744.21(e) | 87 FR [INSERT FR PAGE NUMBER], 3/3/2022.
| Foreign Intelligence Service (SVR), Yasenevo 11 Kolpachny, Moscow, 0101000. | All items subject to the EAR except for food or medicine designated as EAR99. (See §§ 734.9(g),³ 746.8(a)(3), and 744.21(b) of the EAR) | Policy of denial. See §§ 746.8(b) and 744.21(e) | 87 FR [INSERT FR PAGE NUMBER], 3/3/2022.
| Forensic Center of Nizhniy Novgorod Region Main Directorate of the Ministry of Interior Affairs, Gorkiy Street, 71, Nizhniy Novgorod 603950, Russia. | All items subject to the EAR except for food or medicine designated as EAR99. (See §§ 734.9(g),³ 746.8(a)(3), and 744.21(b) of the EAR) | Policy of denial. See §§ 746.8(b) and 744.21(e) | 87 FR [INSERT FR PAGE NUMBER], 3/3/2022.
| * * * * * *
| International Center for Quantum Optics and Quantum Technologies LLC, a.k.a. the following two aliases: —Russian Quantum Center and —RQC. Business-center “Ural,” 100 Novaya Street, Skolkovo, Moscow, 143025, Russia; and 30 Bolshoy Blvd., Bldg. 1, Moscow, 121205, Russia; and 100A Novaya Street, Skolkovo, Odintsovsky District, Moscow, 143025, Russia. | All items subject to the EAR except for food or medicine designated as EAR99, or ECCN 5A992.c and 5D992.c unless for Russian “government end users” and Russian state-owned enterprises (SoEs) to Russia. (See §§ 734.9(g),³ 746.8(a)(3), and 744.21(b) of the EAR) | Policy of denial. See §§ 746.8(b) and 744.21(e) | 87 FR [INSERT FR PAGE NUMBER], 3/3/2022.
| * * * * * *
| Irkut Corporation, Leningradsky Prospect 68, Moscow 125315, Russia. | All items subject to the EAR except for food or medicine designated as EAR99. (See §§ 734.9(g),³ 746.8(a)(3), and 744.21(b) of the EAR) | Policy of denial. See §§ 746.8(b) and 744.21(e) | 87 FR [INSERT FR PAGE NUMBER], 3/3/2022.
| Irkut Research and Production Corporation Public Joint Stock Company, 68 Leningradsky Prospect, Moscow 125315, Russia. | All items subject to the EAR except for food or medicine designated as EAR99. (See §§ 734.9(g),³ 746.8(a)(3), and 744.21(b) of the EAR) | Policy of denial. See §§ 746.8(b) and 744.21(e) | 87 FR [INSERT FR PAGE NUMBER], 3/3/2022.
| * * * * * *
| Joint Stock Company Scientific Research Institute of Computing Machinery, Melnichnaya Street, 31, Kirov 610025, Russia. | All items subject to the EAR except for food or medicine designated as EAR99. (See §§ 734.9(g),³ 746.8(a)(3), and 744.21(b) of the EAR) | Policy of denial. See §§ 746.8(b) and 744.21(e) | 87 FR [INSERT FR PAGE NUMBER], 3/3/2022.
| * * * * * *
| JSC Central Research Institute of Machine Building (JSC TsNIIMash), Pionerskaya Street, 4, korpus 22, Moskovskaya obl., Korolov 141070, Russia. | All items subject to the EAR except for food or medicine designated as EAR99, or ECCN 5A992.c and 5D992.c unless for Russian “government end users” and Russian state-owned enterprises (SoEs) to Russia. (See §§ 734.9(g),³ 746.8(a)(3), and 744.21(b) of the EAR) This license requirement may be overcome by License Exception GOV under § 740.11(b)(2) and (e) | Policy of denial. See §§ 746.8(b) and 744.21(e) | 87 FR [INSERT FR PAGE NUMBER], 3/3/2022.
| * * * * * *
| JSC Kazan Helicopter Plant Repair Service, a.k.a., the following two aliases: —Kazanski Vertoletny Zavod Remservis; and —KVZ Remservis. Ulitsa Tetsevskaya 14, Kazan, Russia. | All items subject to the EAR except for food or medicine designated as EAR99. (See §§ 734.9(g),³ 746.8(a)(3), and 744.21(b) of the EAR) | Policy of denial. See §§ 746.8(b) and 744.21(e) | 87 FR [INSERT FR PAGE NUMBER], 3/3/2022.
| JSC Rocket and Space Centre—Progress, Zemetsa Street 18, Samarskaya Oblast, Samara 443009, Russia. | All items subject to the EAR except for food or medicine designated as EAR99. (See §§ 734.9(g),³ 746.8(a)(3), and 744.21(b) of the EAR) This license requirement may be overcome by License Exception GOV under § 740.11(b)(2) and (e) | Policy of denial. See §§ 746.8(b) and 744.21(e) | 87 FR [INSERT FR PAGE NUMBER], 3/3/2022.
| * * * * * *
| Kamensk-Uralsky Metallurgical Works J.S. Co., 5 Zavodskaya St., Kamensk Uralsky, 623405 Sverdlovsk region, Russia. | All items subject to the EAR except for food or medicine designated as EAR99, or ECCN 5A992.c and 5D992.c unless for Russian “government end users” and Russian state-owned enterprises (SoEs) to Russia. (See §§ 734.9(g),³ 746.8(a)(3), and 744.21(b) of the EAR) | Policy of denial. See §§ 746.8(b) and 744.21(e) | 87 FR [INSERT FR PAGE NUMBER], 3/3/2022.
| * * * * * *
| Kazan Helicopter Plant PJSC, Tetsevskaya St, Kazan 420085, Russia. | All items subject to the EAR except for food or medicine designated as EAR99. (See §§ 734.9(g),³ 746.8(a)(3), and 744.21(b) of the EAR) | Policy of denial. See §§ 746.8(b) and 744.21(e) | 87 FR [INSERT FR PAGE NUMBER], 3/3/2022.
| * * * * * *
| Komsomolsk-na-Amur Aviation Production Organization (KNAAPO), 1 Sovetskaya Street, Komsomolsk-on-Amur, Khabarovsky Krai, Russia 618018. | All items subject to the EAR except for food or medicine designated as EAR99. (See §§ 734.9(g),³ 746.8(a)(3), and 744.21(b) of the EAR) | Policy of denial. See §§ 746.8(b) and 744.21(e) | 87 FR [INSERT FR PAGE NUMBER], 3/3/2022.
| * * * * * *
| Main Intelligence Directorate, a.k.a., the following three aliases —Glavnoe Razvedyvatel'noe Upravlenie; —GRU; and —Main Intelligence Department. Khoroshevskoye Shosse 76, Khodinka, Moscow, Russia; and Ministry of Defence of the Russian Federation, Frunzenskaya nab., 22/2, Moscow 119160, Russia. | All items subject to the EAR except for food or medicine designated as EAR99. (See §§ 734.9(g),³ 746.8(a)(3), and 744.21(b) of the EAR) | Presumption of denial | 82 FR 724, 1/4/17. 87 FR [INSERT FR PAGE NUMBER], 3/3/2022.
| * * * * * *
| Ministry of Defence of the Russian Federation, including the Armed Forces of Russia and all operating units wherever located. This includes the national armed services (army, navy, marine, air force, or coast guard), as well as the national guard and national police, government intelligence or reconnaissance organizations of the Russian Federation. All address located in Russia. | All items subject to the EAR except for food or medicine designated as EAR99. (See §§ 734.9(g),³ 746.8(a)(3), and 744.21(b) of the EAR) The license requirements under this entry also extend to any export, reexport and transfer (in-country) to the entity wherever located worldwide. | Policy of denial. See §§ 746.8(b) and 744.21(e) | 87 FR [INSERT FR PAGE NUMBER], 3/3/2022.
| * * * * * *
| Moscow Institute of Physics and Technology, a.k.a., the following two aliases: —MIPT; and —MFTI. Dolgoprudny Campus: 9 Institutskiy per., Dolgoprudny, Moscow Region 141701, Russia; and Zhukovsky Campus: Ulitsa Gagarina 16, Zhukovsky, Moscow Region 140180, Russia; and Moscow Campus 1 Stroyeniye 1, Klimentovsky Pereulok, Moscow Region 115184, Russia. | All items subject to the EAR except for food or medicine designated as EAR99. (See §§ 734.9(g),³ 746.8(a)(3), and 744.21(b) of the EAR) | Policy of denial. See §§ 746.8(b) and 744.21(e) | 87 FR [INSERT FR PAGE NUMBER], 3/3/2022.
| * * * * * *
| NPO High Precision Systems JSC, Kievskaya Street 7, Moscow, Russia. | All items subject to the EAR except for food or medicine designated as EAR99. (See §§ 734.9(g),³ 746.8(a)(3), and 744.21(b) of the EAR) | Policy of denial. See §§ 746.8(b) and 744.21(e) | 87 FR [INSERT FR PAGE NUMBER], 3/3/2022.
| NPO Splav JSC, 33 ul. Shcheglov Kaya Zaseka Tula, 300004 Russia. | All items subject to the EAR except for food or medicine designated as EAR99. (See §§ 734.9(g),³ 746.8(a)(3), and 744.21(b) of the EAR) | Policy of denial. See §§ 746.8(b) and 744.21(e) | 87 FR [INSERT FR PAGE NUMBER], 3/3/2022.
| * * * * * *
| Oboronprom OJSC, 29/141 Vereiskaya Street, Moscow, 121357 Russia. | All items subject to the EAR except for food or medicine designated as EAR99, or ECCN 5A992.c and 5D992.c unless for Russian “government end users” and Russian state-owned enterprises (SoEs) to Russia. (See §§ 734.9(g),³ 746.8(a)(3), and 744.21(b) of the EAR) | Policy of denial. See §§ 746.8(b) and 744.21(e) | 87 FR [INSERT FR PAGE NUMBER], 3/3/2022.
| * * * * * *
| PJSC Beriev Aircraft Company, 1 Aviatorov Square, Taganrog 347923, Russia. | All items subject to the EAR except for food or medicine designated as EAR99. (See §§ 734.9(g),³ 746.8(a)(3), and 744.21(b) of the EAR) | Policy of denial. See §§ 746.8(b) and 744.21(e) | 87 FR [INSERT FR PAGE NUMBER], 3/3/2022.
| PJSC Irkut Corporation, Regional Aircraft 26 Leninskaya Sloboda, Moscow 115280, Russia. | All items subject to the EAR except for food or medicine designated as EAR99. (See §§ 734.9(g),³ 746.8(a)(3), and 744.21(b) of the EAR) | Policy of denial. See §§ 746.8(b) and 744.21(e) | 87 FR [INSERT FR PAGE NUMBER], 3/3/2022.
| PJSC Kazan Helicopters, Tetsevskaya Street, 14, Kazan, Tatarstan Republic 420085, Russia. | All items subject to the EAR except for food or medicine designated as EAR99. (See §§ 734.9(g),³ 746.8(a)(3), and 744.21(b) of the EAR) | Policy of denial. See §§ 746.8(b) and 744.21(e) | 87 FR [INSERT FR PAGE NUMBER], 3/3/2022.
| * * * * * *
| POLYUS Research Institute of M.F. Stelmakh Joint Stock Company, Building 1, 3 Vvedenskogo Street, Moscow, 117342, Russia. | All items subject to the EAR except for food or medicine designated as EAR99. (See §§ 734.9(g),³ 746.8(a)(3), and 744.21(b) of the EAR) | Policy of denial. §§ 746.8(b) and 744.21(e) | 87 FR [INSERT FR PAGE NUMBER], 3/3/2022.
| * * * * * *
| Promtech-Dubna, JSC, Programmistov St., 4, Room 364, Dubna, Moscow 141983, Russia. | All items subject to the EAR except for food or medicine designated as EAR99, or ECCN 5A992.c and 5D992.c unless for Russian “government end users” and Russian state-owned enterprises (SoEs) to Russia. (See §§ 734.9(g),³ 746.8(a)(3), and 744.21(b) of the EAR) | Policy of denial. See §§ 746.8(b) and 744.21(e) | 87 FR [INSERT FR PAGE NUMBER], 3/3/2022.
| * * * * * *
| Public Joint Stock Company United Aircraft Corporation, Bolshaya Pionerskaya, Moscow 115054, Russia. | All items subject to the EAR except for food or medicine designated as EAR99. (See §§ 734.9(g),³ 746.8(a)(3), and 744.21(b) of the EAR) | Policy of denial. See §§ 746.8(b) and 744.21(e) | 87 FR [INSERT FR PAGE NUMBER], 3/3/2022.
| * * * * * *
| Radiotechnical and Information Systems (RTI) Concern, 127083, Moscow, 8 marta, 10/1 Russia. | All items subject to the EAR except for food or medicine designated as EAR99, or ECCN 5A992.c and 5D992.c unless for Russian “government end users” and Russian state-owned enterprises (SoEs) to Russia. (See §§ 734.9(g),³ 746.8(a)(3), and 744.21(b) of the EAR) | Policy of denial. See §§ 746.8(b) and 744.21(e) | 87 FR [INSERT FR PAGE NUMBER], 3/3/2022.
| * * * * * *
| Rapart Services LLC, Aeroportovskaya Str. 6/2, Solnechnogorskiy Region, Dubrobki 141580, Russia. | All items subject to the EAR except for food or medicine designated as EAR99. (See §§ 734.9(g),³ 746.8(a)(3), and 744.21(b) of the EAR) | Policy of denial. See §§ 746.8(b) and 744.21(e) | 87 FR [INSERT FR PAGE NUMBER], 3/3/2022.
| * * * * * *
| Rosoboronexport OJSC (ROE), Strada Strominka 27, Moscow, 107076 Russia. | All items subject to the EAR except for food or medicine designated as EAR99. (See §§ 734.9(g),³ 746.8(a)(3), and 744.21(b) of the EAR) | Policy of denial. See §§ 746.8(b) and 744.21(e) | 87 FR [INSERT FR PAGE NUMBER], 3/3/2022.
| * * * * * *
| Rostec (Russian Technologies State Corporation), 24 Usacheva Street, Moscow, Russia 119048. | All items subject to the EAR except for food or medicine designated as EAR99. (See §§ 734.9(g),³ 746.8(a)(3), and 744.21(b) of the EAR) | Policy of denial. See §§ 746.8(b) and 744.21(e) | 87 FR [INSERT FR PAGE NUMBER], 3/3/2022.
| Rostekh—Azimuth, Building 2, 5 Suite X, Room 15, Floor 2, Narishkinskaya Alleya, Moscow 125167, Russia. | All items subject to the EAR except for food or medicine designated as EAR99. (See §§ 734.9(g),³ 746.8(a)(3), and 744.21(b) of the EAR) | Policy of denial. See §§ 746.8(b) and 744.21(e) | 87 FR [INSERT FR PAGE NUMBER], 3/3/2022.
| Russian Aircraft Corporation MiG, Leningradskoe Highway, 6, Building 1, Moscow, 125171, Russia. | All items subject to the EAR except for food or medicine designated as EAR99. (See §§ 734.9(g),³ 746.8(a)(3), and 744.21(b) of the EAR) | Policy of denial. See §§ 746.8(b) and 744.21(e) | 87 FR [INSERT FR PAGE NUMBER], 3/3/2022.
| Russian Helicopters JSC, Bolshaya Pionerskaya, 1, Moscow, 123610, Russia. | All items subject to the EAR except for food or medicine designated as EAR99. (See §§ 734.9(g),³ 746.8(a)(3), and 744.21(b) of the EAR) | Policy of denial. See §§ 746.8(b) and 744.21(e) | 87 FR [INSERT FR PAGE NUMBER], 3/3/2022.
| * * * * * *
| SP Kvant, a.k.a., the follow three aliases: —Kvant LLC; —Limited Liability Company Joint Venture Quantum Technologies; and —Joint Venture Quantum. D. 46, Etazh 6, pom. 600K, Shosse Varshavskoe, Moscow, 115230, Russia. | All items subject to the EAR except for food or medicine designated as EAR99, or ECCN 5A992.c and 5D992.c unless for Russian “government end users” and Russian state-owned enterprises (SoEs) to Russia. (See §§ 734.9(g),³ 746.8(a)(3), and 744.21(b) of the EAR) | Policy of denial. See §§ 746.8(b) and 744.21(e) | 87 FR [INSERT FR PAGE NUMBER], 3/3/2022.
| * * * * * *
| Sukhoi Aviation JSC, Polikarpov Str., 23B, Moscow, 125284, Russia. | All items subject to the EAR except for food or medicine designated as EAR99. (See §§ 734.9(g),³ 746.8(a)(3), and 744.21(b) of the EAR) | Policy of denial. See §§ 746.8(b) and 744.21(e) | 87 FR [INSERT FR PAGE NUMBER], 3/3/2022.
| Sukhoi Civil Aircraft, 1 Sovetskaya Street, Komsomolsk-On-Amur 681018, Russia; and 15 Tupoleva Street, OP JSC SCA, Zukhovskiy 140180, Russia; and 23b Bld. 2 Polikarpova St., Moscow 125824, Russia; and 26, Bld. 5, Leninskaya Sloboda Street, Moscow, 115280, Russia; and Antonova Avenue 1, Ulianovsk 432072, Russia; and Leningradskaya Street 80/4A, Komsomolsk-On-Amur 681007, Russia. | All items subject to the EAR except for food or medicine designated as EAR99. (See §§ 734.9(g),³ 746.8(a)(3), and 744.21(b) of the EAR) | Policy of denial. See §§ 746.8(b) and 744.21(e) | 87 FR [INSERT FR PAGE NUMBER], 3/3/2022.
| * * * * * *
| Tactical Missiles Corporation JSC, KorolevIlyicha Street, 7, 141080, Russia. | All items subject to the EAR except for food or medicine designated as EAR99. (See §§ 734.9(g),³ 746.8(a)(3), and 744.21(b) of the EAR) | Policy of denial. See §§ 746.8(b) and 744.21(e) | 87 FR [INSERT FR PAGE NUMBER], 3/3/2022.
| * * * * * *
| Tupolev JSC, Academician Tupolev Embankment 17, Moscow, 105005, Russia. | All items subject to the EAR except for food or medicine designated as EAR99. (See §§ 734.9(g),³ 746.8(a)(3), and 744.21(b) of the EAR) | Policy of denial. See §§ 746.8(b) and 744.21(e) | 87 FR [INSERT FR PAGE NUMBER], 3/3/2022.
| UEC-Saturn, 163 Lenin Avenue, Rybinsk 152903, Yavoslavl Region, Russia. | All items subject to the EAR except for food or medicine designated as EAR99. (See §§ 734.9(g),³ 746.8(a)(3), and 744.21(b) of the EAR) | Policy of denial. See §§ 746.8(b) and 744.21(e) | 87 FR [INSERT FR PAGE NUMBER], 3/3/2022.
| * * * * * *
| United Aircraft Corporation, Bolshaya Pionerskaya Str., 1, Moscow, 115054, Russia. | All items subject to the EAR except for food or medicine designated as EAR99. (See §§ 734.9(g),³ 746.8(a)(3), and 744.21(b) of the EAR) | Policy of denial. See §§ 746.8(b) and 744.21(e) | 87 FR [INSERT FR PAGE NUMBER], 3/3/2022.
| United Engine Corporation, 16, Budyonny Avenue, Moscow, 105118 Russia. | All items subject to the EAR except for food or medicine designated as EAR99. (See §§ 734.9(g),³ 746.8(a)(3), and 744.21(b) of the EAR) | Policy of denial. See §§ 746.8(b) and 744.21(e) | 87 FR [INSERT FR PAGE NUMBER], 3/3/2022.
| United Instrument Manufacturing Corporation, Vereiskaya 29, str. 141, Moscow, Russia. | All items subject to the EAR except for food or medicine designated as EAR99. (See §§ 734.9(g),³ 746.8(a)(3), and 744.21(b) of the EAR) | Policy of denial. See §§ 746.8(b) and 744.21(e) | 87 FR [INSERT FR PAGE NUMBER], 3/3/2022.
| * * * * * *
* * * * * * *
* * * * * * *
³ For this entity, “items subject to the EAR” includes foreign-produced items that are subject to the EAR under § 734.9(g) of the EAR. See §§ 746.8 and 744.21 of the EAR for related license requirements, license review policy, and restrictions on license exceptions.

Supplement No. 7 to Part 744 [Amended]

19. Supplement No. 7 to part 744 is amended by removing RUSSIA and all the Russian entries.

PART 746—EMBARGOES AND OTHER SPECIAL CONTROLS

20. The authority citation for 15 CFR part 746 is revised to read as follows:

Authority: 50 U.S.C. 4801-4852; 50 U.S.C. 4601 et seq.; 50 U.S.C. 1701 et seq.; 22 U.S.C. 287c; Sec 1503, Pub. L. 108-11, 117 Stat. 559; 22 U.S.C. 2151 note; 22 U.S.C. 6004; 22 U.S.C. 7201 et seq.; 22 U.S.C. 7210; E.O. 12854, 58 FR 36587, 3 CFR, 1993 Comp., p. 614; E.O. 12918, 59 FR 28205, 3 CFR, 1994 Comp., p. 899; E.O. 13222, 66 FR 44025, 3 CFR, 2001 Comp., p. 783; E.O. 13338, 69 FR 26751, 3 CFR, 2004 Comp., p 168; Presidential Determination 2003-23, 68 FR 26459, 3 CFR, 2004 Comp., p. 320; Presidential Determination 2007-7, 72 FR 1899, 3 CFR, 2006 Comp., p. 325; Notice of May 6, 2021, 86 FR 26793 (May 10, 2021).

21. Section 746.5 is amended by revising paragraph (a)(1) to read as follows:

§ 746.5 Russian industry sector sanctions.

(a) * * *

(1) General prohibition. (i) A license is required to export, reexport or transfer (in-country) any item subject to the Export Administration Regulations (EAR) listed in supplement No. 2 to this part and items specified in ECCNs 0A998, 1C992, 3A229, 3A231, 3A232, 6A991, 8A992, and 8D999 when you know that the item will be used directly or indirectly in exploration for, or production of, oil or gas in Russian deepwater (greater than 500 feet) or Arctic offshore locations or shale formations in Russia, or are unable to determine whether the item will be used in such projects. Such items include, but are not limited to, drilling rigs, parts for horizontal drilling, drilling and completion equipment, subsea processing equipment, Arctic-capable marine equipment, wireline and down hole motors and equipment, drill pipe and casing, software for hydraulic fracturing, high pressure pumps, seismic acquisition equipment, remotely operated vehicles, compressors, expanders, valves, and risers.

(ii) You should be aware that other provisions of the EAR, including parts 742 and 744 and § 746.8, also apply to exports and reexports to Russia. License applications submitted to BIS under this section may include the phrase “section 746.5” or in Block 9 (Special Purpose) as described in Supplement No. 1 to part 748 of the EAR.

* * * * *

22. Section 746.6 is revised to read as follows:

§ 746.6 Crimea Region of Ukraine and Covered Regions of Ukraine.

(a) License requirements—(1) General prohibition—Crimea. A license is required to export or reexport to or transfer within the Crimea region of Ukraine any item subject to the EAR other than food and medicine designated as EAR99, or `software necessary to enable the exchange of personal communications over the internet'.

(2) General prohibition—Donetsk People's Republic (DNR) and Luhansk People's Republic (LNR). A license is required to export or reexport to, or transfer within, the so-called DNR or LNR regions of Ukraine any item subject to the EAR other than: Food and medicine designated as EAR99, or `software necessary to enable the exchange of personal communications over the internet'.

(3) Deemed exports or reexports. For purposes of applying the EAR deemed export and deemed reexport requirements pursuant to the general prohibitions described in this paragraph (a)(3), the nationality of the foreign national (as determined by accepted methods, such as looking to the passport or other nationality document(s) recognized by the United States Government) is what is used for purposes of determining whether a license is required for a deemed export or deemed reexport.

(b) License review policy. Applications will be reviewed with a policy of denial, except for applications for transactions authorized under OFAC Ukraine-Related General Licenses, which will be reviewed on a case-by-case basis.

(c) License exceptions. You may export, reexport or transfer (in-country) without a license if your transaction meets all the applicable terms and conditions of any of the license exception paragraphs specified in this paragraph (c). To determine scope and eligibility requirements, you will need to refer to the sections or specific paragraphs of part 740 (License Exceptions) of the EAR, as well as § 740.2 license exception restrictions. Read each license exception carefully, as the provisions available for countries subject to sanctions are generally narrow.

(1) TMP for items for use by the news media as set forth in § 740.9(a)(9) of the EAR.

(2) GOV for items for personal or official use by personnel and agencies of the U.S. Government, the International Atomic Energy Agency (IAEA), or the European Atomic Energy Community (Euratom) as set forth in § 740.11(a) and (b)(2) of the EAR.

(3) GFT for gift parcels and humanitarian donations as set forth in § 740.12 of the EAR.

(4) TSU for operation technology and software for lawfully exported commodities as set forth in § 740.13(a) and sales technology as set forth in § 740.13 (b) of the EAR.

(5) BAG for exports of items by individuals leaving the United States as personal baggage as set forth in § 740.14(a) through (d) of the EAR.

(6) AVS for civil aircraft and vessels as set forth in § 740.15(a)(4) and (d) of the EAR.

(d) Definitions. For purpose of this section, use the following definitions of terms:

(1) `Crimea region of Ukraine' includes the land territory in that region as well as any maritime area over which sovereignty, sovereign rights, or jurisdiction is claimed based on occupation of that land territory.

(2) `Donetsk People's Republic (DNR) region' or `Luhansk People's Republic (LNR) region' include the land territory in those regions as well as any maritime area over which sovereignty, sovereign rights, or jurisdiction is claimed based on purported sovereignty over that land territory or area.

(3) `Software necessary to enable the exchange of personal communications over the internet' includes only software (such as software for instant messaging, chat and email, social networking, sharing of photos and movies, Web browsing, and blogging), designated EAR99 or classified as mass market software under Export Control Classification Number (ECCN) 5D992.c of the EAR, provided that such software is widely available to the public at no cost to the user.

23. Section 746.8 is added to read as follows:

§ 746.8 Sanctions against Russia.

(a) License requirements—(1) Items classified in any ECCN in CCL Categories 3 to 9. In addition to license requirements specified on the Commerce Control List (CCL) in Supplement No. 1 to part 774 of the EAR and in other provisions of the EAR, including part 744 and § 746.5, a license is required, excluding deemed exports and deemed reexports, to export, reexport, or transfer (in-country) to or within Russia any item subject to the EAR and specified in any Export Control Classification Number (ECCN) in Categories 3, 4, 5, 6, 7, 8, or 9 of the CCL.

(2) Foreign-produced “direct product” items subject to the EAR under Russia foreign “direct product” (FDP) rule. Except as described in paragraph (a)(4) of this section, a license is required to reexport, export from abroad, or transfer (in-country) to any destination any foreign-produced item subject to the EAR under the Russia FDP Rule described in § 734.9(f) of the EAR.

(3) Foreign-produced “direct product” items subject to the EAR under Russia-Military End User FDP rule. Except as described in paragraph (a)(4) of this section, a license is required to reexport, export from abroad, or transfer (in-country) to or within any destination any foreign-produced item subject to the EAR under § 734.9(g) of the EAR other than food or medicine designated as EAR99, or ECCN 5A992.c and 5D992.c unless for Russian “government end users” and Russian state-owned enterprises (SoEs).

(4) Exclusion from license requirements under paragraphs (a)(2) and (3) of this section. The countries listed in supplement No. 3 to this part have committed to implementing substantially similar export controls on Russia under their domestic laws. Therefore, exports or reexports from the countries described in this supplement No. 3 to this part or transfers (in-country) within the countries described in this supplement are not subject to the license requirements described in paragraphs (a)(2) and (3) of this section, unless a limit to the exclusion is described in the Scope column in supplement No. 3 to this part.

(5) Exclusion from scope of U.S.-origin controlled content under paragraph (a)(1) of this section. For purposes of determining U.S.-origin controlled content under supplement No. 2 to part 734 of the EAR, paragraph (a)(1) of this section when making a de minimis calculation for reexports and exports from abroad to Russia, the license requirements in paragraph (a)(1) of this section are not used to determine controlled U.S.-origin content in a foreign-made item, provided the criteria in paragraphs (a)(5)(i) and (ii) of this section are met:

(i) The U.S.-origin content is described in an Anti-Terrorism (AT)-only ECCN and is not otherwise excluded from the applicable Scope column in supplement No. 3 to this part. For purposes of this paragraph (a)(5), AT-only items means any ECCN that only specifies either only AT in the reason for control paragraph of the ECCN or is classified under ECCN 9A991; and

(ii) The foreign made item will be reexported or exported from abroad from a country described in supplement No. 3 to this part.

Note 1 to paragraph (a). A `military end user' for purposes of paragraph (a)(3) and (4) of this section is any entity listed on the Entity List in supplement No. 4 to part 744 of the EAR under Russia with a footnote 3 designation.

(b) Licensing policy. With limited exceptions, applications for the export, reexport or transfer (in-country) of any item that requires a license for export or reexport to or transfer pursuant to the requirements of this section will be reviewed with a policy of denial. The following types of license applications for licenses required under paragraphs (a)(1) and (2) of this section will be reviewed on a case-by-case basis to determine whether the transaction in question would benefit the Russian government or defense sector: Applications related to safety of flight; applications related to maritime safety; applications to meet humanitarian needs; applications that support government space cooperation; applications for items destined to wholly-owned U.S. subsidiaries, foreign subsidiaries of U.S. companies that are joint ventures with other U.S. companies, joint ventures of U.S. companies with companies headquartered in countries from Country Group A:5 and A:6 in supplement no. 1 to part 740 of the EAR countries, the wholly-owned subsidiaries of companies headquartered in countries from Country Group A:5 and A:6 in supplement no. 1 to part 740, joint ventures of companies headquartered in Country Groups A:5 and A:6 with other companies headquartered in Country Groups A:5 and A:6; applications for companies headquartered in Country Groups A:5 and A:6 to support civil telecommunications infrastructure; and government-to-government activities. License applications required under paragraph (a)(3) of this section will be reviewed under a policy of denial in all cases.

(c) License exceptions. No license exceptions may overcome the license requirements in paragraph (a)(3) of this section, except as specified in the Entity List entry for a Footnote 3 entity on the Entity List in supplement no. 4 to part 744 of the EAR. No license exceptions may overcome the license requirements in paragraphs (a)(1) and (2) of this section except the following license exceptions identified in paragraphs (c)(1) through (7) of this section.

(1) License Exception TMP for items for use by the news media as set forth in § 740.9(a)(9) of the EAR.

(2) License Exception GOV (§ 740.11(b) of the EAR).

(3) License Exception TSU for software updates for civil end-users that are wholly-owned U.S. subsidiaries, foreign subsidiaries of U.S. companies that are joint ventures with other U.S. and companies, joint ventures of U.S. companies with companies headquartered in countries from Country Group A:5 and A:6 in supplement no. 1 to part 740 of the EAR countries, the wholly-owned subsidiaries of companies headquartered in countries from Country Group A:5 and A:6 in supplement no. 1 to part 740, or joint ventures of companies headquartered in Country Group A:5 and A:6 with other companies headquartered in Country Groups A:5 and A:6 (§ 740.13(c) of the EAR).

(4) License Exception BAG, excluding firearms and ammunition (§ 740.14, excluding paragraph (e), of the EAR).

(5) License Exception AVS (§ 740.15(a) and (b) of the EAR).

(6) License Exception ENC excluding Russian “government end users” and Russian state-owned enterprises (SoEs) (§ 740.17 of the EAR).

(7) License Exception CCD (§ 740.19 of the EAR).

24. Supplement No. 2 to part 746 is amended by revising the introductory text of the supplement to read as follows:

Supplement No. 2 to Part 746—Russian Industry Sector Sanction List

The source for the Schedule B numbers and descriptions in this list comes from the Bureau of the Census's Schedule B concordance of exports 2022. Census's Schedule B List 2022 can be found at www.census.gov/foreign-trade/aes/documentlibrary/#concordance. The Introduction Chapter of the Schedule B provides important information about classifying products and interpretations of the Schedule B, e.g., NESOI means Not Elsewhere Specified or Included. In addition, important information about products within a particular chapter may be found at the beginning of chapters.

* * * * *

25. Add Supplement No. 3 to part 746 to read as follows:

Supplement No. 3 to Part 746—Countries Excluded From Certain License Requirements of § 746.8

Countries listed in this supplement No. 3 have committed to implementing substantially similar export controls on Russia under their domestic laws and are consequently excluded from certain requirements in § 746.8 of the EAR, as described in § 746.8(a)(4) and (5). The Scope column of the following table identifies whether the country receives a full or partial exclusion. For countries with partial exclusions, the items for which such exclusions apply are listed in the Scope column.

Country | Scope | Federal Register citation
Australia | Full | 87 FR [INSERT FR PAGE NUMBER], 3/3/2022.
Austria | Full | 87 FR [INSERT FR PAGE NUMBER], 3/3/2022.
Belgium | Full | 87 FR [INSERT FR PAGE NUMBER], 3/3/2022.
Bulgaria | Full | 87 FR [INSERT FR PAGE NUMBER], 3/3/2022.
Canada | Full | 87 FR [INSERT FR PAGE NUMBER], 3/3/2022.
Croatia | Full | 87 FR [INSERT FR PAGE NUMBER], 3/3/2022.
Cyprus | Full | 87 FR [INSERT FR PAGE NUMBER], 3/3/2022.
Czech Republic | Full | 87 FR [INSERT FR PAGE NUMBER], 3/3/2022.
Denmark | Full | 87 FR [INSERT FR PAGE NUMBER], 3/3/2022.
Estonia | Full | 87 FR [INSERT FR PAGE NUMBER], 3/3/2022.
Finland | Full | 87 FR [INSERT FR PAGE NUMBER], 3/3/2022.
France | Full | 87 FR [INSERT FR PAGE NUMBER], 3/3/2022.
Germany | Full | 87 FR [INSERT FR PAGE NUMBER], 3/3/2022.
Greece | Full | 87 FR [INSERT FR PAGE NUMBER], 3/3/2022.
Hungary | Full | 87 FR [INSERT FR PAGE NUMBER], 3/3/2022.
Ireland | Full | 87 FR [INSERT FR PAGE NUMBER], 3/3/2022.
Italy | Full | 87 FR [INSERT FR PAGE NUMBER], 3/3/2022.
Japan | Full | 87 FR [INSERT FR PAGE NUMBER], 3/3/2022.
Latvia | Full | 87 FR [INSERT FR PAGE NUMBER], 3/3/2022.
Lithuania | Full | 87 FR [INSERT FR PAGE NUMBER], 3/3/2022.
Luxembourg | Full | 87 FR [INSERT FR PAGE NUMBER], 3/3/2022.
Malta | Full | 87 FR [INSERT FR PAGE NUMBER], 3/3/2022.
Netherlands | Full | 87 FR [INSERT FR PAGE NUMBER], 3/3/2022.
New Zealand | Full | 87 FR [INSERT FR PAGE NUMBER], 3/3/2022.
Poland | Full | 87 FR [INSERT FR PAGE NUMBER], 3/3/2022.
Portugal | Full | 87 FR [INSERT FR PAGE NUMBER], 3/3/2022.
Romania | Full | 87 FR [INSERT FR PAGE NUMBER], 3/3/2022.
Slovakia | Full | 87 FR [INSERT FR PAGE NUMBER], 3/3/2022.
Slovenia | Full | 87 FR [INSERT FR PAGE NUMBER], 3/3/2022.
Spain | Full | 87 FR [INSERT FR PAGE NUMBER], 3/3/2022.
Sweden | Full | 87 FR [INSERT FR PAGE NUMBER], 3/3/2022.
United Kingdom | Full | 87 FR [INSERT FR PAGE NUMBER], 3/3/2022.

PART 772—[AMENDED]

26. The authority citation for 15 CFR part 772 continues to read as follows:

Authority: 50 U.S.C. 4801-4852; 50 U.S.C. 4601 et seq.; 50 U.S.C. 1701 et seq.; E.O. 13222, 66 FR 44025, 3 CFR, 2001 Comp., p. 783.

27. Section 772.1 is amended by revising the definition of “Food” to read as follows:

§ 772.1 Definitions of terms as used in the Export Administration Regulations (EAR).

* * * * *

Food. Specific to exports and reexports to North Korea, Syria, Crimea region of Ukraine, and the so-called Donetsk People's Republic and Luhansk People's Republic regions of Ukraine, food means items that are consumed by and provide nutrition to humans and animals, and seeds, with the exception of castor bean seeds, that germinate into items that will be consumed by and provide nutrition to humans and animals. (Food does not include alcoholic beverages.)

* * * * *

Thea D. Rozman Kendler,
Assistant Secretary for Export Administration.

[FR Doc. 2022-04300 Filed 2-24-22; 3:10 pm]

BILLING CODE 3510-33-P